DEPARTMENT OF COMMERCE

National Oceanic and Atmospheric Administration

[Docket No. 030602141-567-18; I.D. 061505A]

RIN 0648-ZB55

Availability of Grant Funds for Fiscal Year 2006

AGENCY: National Oceanic and Atmospheric Administration (NOAA), Commerce.

ACTION: Omnibus notice announcing the availability of grant funds for fiscal year 2006.

SUMMARY: The National Oceanic and Atmospheric Administration (NOAA) announces the availability of grant funds for Fiscal Year 2006. The purpose of this notice is to provide the general public with a single source of program and application information related to the Agency's competitive grant offerings, and it contains the information about those programs required to be published in the Federal Register. This omnibus notice is designed to replace the multiple Federal Register notices that traditionally advertised the availability of NOAA's discretionary funds for its various programs. It should be noted that additional program initiatives unanticipated at the time of the publication of this notice may be announced through both subsequent Federal Register notices and the NOAA Web site. These announcements will also be available through Grants.gov.

DATES: Proposals must be received by the date and time indicated under each program listing in the SUPPLEMENTARY INFORMATION section.

ADDRESSES: Proposals must be submitted to the addresses listed in the SUPPLEMENTARY INFORMATION section for each program. The FR notices may be found on the NOAA Web site at http://www.ofa.noaa.gov/%7Egrants/funding.shtml. The URL for Grants.gov is http://www.grants.gov.

FOR FURTHER INFORMATION CONTACT: For a copy of the full funding opportunity announcement and/or application kit, please contact the person listed as the information contact under each program.

SUPPLEMENTARY INFORMATION: This omnibus notice describes funding opportunities for the following NOAA discretionary grant programs:

NOAA Project Competitions

National Environmental Satellite, Data, and Information Service

1. Research in Satellite Oceanography

2. Research in Satellite Data Assimilation for Numerical and Climate Prediction Models.

3. Research in Primary Vicarious Calibration of Ocean Color Satellite Sensors.

National Marine Fisheries Service

1. Protected Species Conservation and Recovery with States.

2. John H. Prescott Marine Mammal Rescue Assistance Grant Program.

3. Community-based Marine Debris Prevention and Removal Project Grants.

4. Projects to Improve or Amend Coral Reef Fishery Management Plans.

5. Community-based Habitat Restoration Project Grants.

6. Chesapeake Bay Watershed Education & Training (B-WET) Program.

7. FY06 Western Pacific Demonstration Projects.

8. MARFIN Fisheries Initiative Program (MARFIN) FY 2006.

9. Cooperative Research Program (CRP) FY 2006.

10. North Atlantic Right Whale Research Programs.

11. General Coral Reef Conservation.

National Ocean Service.

1. NOAA Coral Reef Conservation Grant Program—State and Territory Coral Reef Management.

2. NOAA Coral Reef Conservation Grant Program—State and Territory Coral Reef Ecosystem Monitoring.

3. South Florida Program.

4. Northern Gulf of Mexico Ecosystem Research Program (NGOMEX).

5. Ecological Forecasting.

6. NOAA Coral Reef Conservation Grant Program—International Coral Reef Conservation.

7. FY 2006 Bay Watershed Education & Training (B-WET) Program, Hawai'i.

8. Bay Watershed Education & Training (B-WET) Program, Monterey Bay Watershed.

9. National Estuarine Research Reserves System FY2006 Land Acquisition and Construction Competitive Program.

10. FY 2006 Coastal Services Center Environmental Characterization of a U.S. Coastal Region.

11. FY2006 Coastal Services Center Leadership Training for Coastal Managers and Scientists.

12. FY2006 Coastal Services Center Application of Spatial Technology for Coastal Management.

13. Coral Reef Ecosystem Studies (CRES) FY 2006.

14. FY2006 Coastal Services Center Performance Measurement Technical Assistance.

National Weather Service

1. AFWS—Automated Flood Warning Systems (AFWS) Program.

2. Hydrologic Research.

Oceans and Atmospheric Research

1. Ballast Water Technology Demonstration Program Competitive Funding Announcement (Research, Development, Testing and Evaluation Facility).

2. NOAA Office of Ocean Exploration Announcement of Opportunity, FY 2006.

3. Ballast Water Technology Demonstration Program Competitive Funding Announcement (Treatment Technology Demonstration Projects).

NOAA Fellowship, Scholarship and Internship Programs

National Ocean Service

1. Dr. Nancy Foster Scholarship Program; Financial Assistance for Graduate Students.

2. National Estuarine Research Reserve (NERR) Graduate Research Fellowship Program (GRF).

Oceans and Atmospheric Research

1. GradFell 2006 C NMFS/Sea Grant Joint Graduate Fellowship Program in Marine Resource Economics.

2. Dean John A. Knauss Marine Policy Fellowship (Knauss Fellowship Program).

3. Sea Grant—Industry Fellowship Program.

4. GradFell 2006 NMFS/Sea Grant Joint Graduate Fellowship Program in Population Dynamics.

Electronic Access

The full funding announcement for each program is available via the Grants.gov Web site: http://www.grants.gov. These announcements will also be available at the NOAA Web site http://www.ofa.noaa.gov/ %7Egrants/funding.shtml or by contacting the program official identified below. You will be able to access, download and submit electronic grant applications for NOAA Programs in this announcement at http://www.grants.gov. The closing dates will be the same as for the paper submissions noted in this announcement. NOAA strongly recommends that you do not wait until the application deadline date to begin the application process through Grants.gov. Getting started with Grants.gov is easy! Go to http://www.Grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go. Individuals who plan to submit a grant application using Grants.gov are required to register with the Credential Provider and register with Grants.gov. In order for you to apply as an individual, the grant application must be open to individuals and be published on the Grants.gov Web site.

Individuals do not need a DUNS number to register to submit applications. The system will generate a default value in that field.

Individuals who plan to submit a grant application using Grants.gov are required to register with the Credential Provider (Step 3 B and register with Grants.gov (Step 4 B).

Get Started Step 1 B Find Grant Opportunity for Which You Would Like To Apply

Start your search for Federal government-wide grant opportunities and register to receive automatic e-mail notifications of new grant opportunities or any modifications to grant opportunities as they are posted to the site by clicking the Find Grant Opportunities tab at the top of the page.

Get Started Step 2 B Organizations Must Register With Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 B Register With the Credential Provider

You must register with a Credential Provider to receive a username and password. This will be required to securely submit your grant application.

Get Started Step 4 B Register With Grants.gov

The final step in the Get Started process is to register with Grants.gov. This will be required to submit grant applications on behalf of your organization. After you have completed the registration process, you will receive e-mail notification confirming that you are able to submit applications through Grants.gov.

Get Started Step 5 B Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization.

Evaluation Criteria & Selection Procedures

NOAA standardized the evaluation and selection process for its competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for letters of intent or pre-proposals; however, not all programs will include such a process. If a pre-application process is used by a program, it shall be described in the Summary Description and the deadline shall be provided in the Application Deadline section. Upon receipt of a full application by NOAA, an initial administrative review is conducted to determine compliance with requirements and completeness of the application. Merit review is conducted by mail reviewers and/or peer panel reviewers.

Each reviewer will individually evaluate and rank proposals using the evaluation criteria provided below. A minimum of three merit reviewers per proposal is required. The merit reviewer's ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to NOAA, Federal, regional, State, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or Participation of targeted groups.

7. Adequacy of information necessary for NOAA staff to make a NEPA determination and draft necessary documentation before recommendations for funding are made to the Grants Officer.

Proposal Review and Selection Process for NOAA Fellowship, Scholarship and Internship Programs

Some programs may include a pre-application process which provides an initial review and feedback to the applicants that have responded to a call for letters of intent or pre-proposals; however not all programs will include such a process. If a pre-application process is used by a program, it shall be described in the Summary Description and the deadline shall be provided in the Application Deadline section. An initial administrative review of full applications is conducted to determine compliance with requirements and completeness of applications. A merit review is conducted to individually evaluate, score, and rank applications using the evaluation criteria. A second merit review may be conducted on the applicants that meet the program's threshold (based on scores from the first merit review) to make selections using the selection factors provided below. The Program Officer may conduct a review of the rank order and make recommendations to the Selecting Official based on the panel ratings and the selection factors listed below. The Selecting Official considers merit reviews and recommendations. The Selecting Official will award in rank order unless the proposal is justified to be selected out of rank order based upon one or more of the selection factors below. The Selecting Official makes final recommendations for award to the Grants Officer who is authorized to obligate the funds.

Evaluation Criteria for Fellowship/Scholarships/Internships

1. Academic record and statement of career goals and objectives of student.

2. Quality of project and applicability to program priorities.

3. Recommendations and/or endorsements of student.

4. Additional relevant experience related to diversity of education; extra-curricular activities; honors and awards; interpersonal, written, and oral communications skills.

5. Financial need of student.

Selection Factors for Fellowship/Scholarships/Internships

1. Balance/Distribution of funds:

a. Across academic disciplines.

b. By types of institutions.

c. Geographically.

2. Availability of funds.

3. Program-specific objectives.

4. Degree in scientific area and type of degree sought NOAA Project Competitions.

National Environmental Satellite, Data, and Information Service

1. Research in Satellite Oceanography

Summary Description: The National Environmental Satellite, Data, and Information Service (NESDIS), Office of Research and Applications (ORA), announces the availability of Federal assistance in the area of satellite oceanography. This program responds to a need for research and activities that expand the use of satellite oceanographic data. Funded proposals will help build capabilities nationwide in the application of satellite oceanographic data for environmental monitoring, prediction, and coastal management. Program priorities include research in ocean color, sea ice, ocean vector winds, sea surface height, sea surface temperature, and sea surface roughness.

Funding Availability: The total amount available for proposals is anticipated to be approximately $375,000 per year. Individual annual awards in the form of grants or cooperative agreements are expected to range from $50,000 per year to a maximum of $125,000 per year for no more than two years.

Statutory Authority: Statutory authority for this program is provided under 33 U.S.C. 883d, 33 U.S.C. 1442, and 49 U.S.C. 44720(b).

Catalog of Federal Domestic Assistance (CFDA) Number: 11.440, Environmental Sciences, Applications, Data, and Education.

Application Deadline: Proposals must be received no later than 4 p.m. eastern daylight time, September 23, 2005.

Address for Submitting Proposals: Proposals must be submitted electronically via http://www.grants.gov, or as hard copy (by postal mail, commercial delivery service, or hand delivery) to the Office of Research and Applications of NESDIS. Hard copy proposals must be submitted to: ATTN: William Pichel, NOAA/NESDIS/ORA; WWB Room 601, 5200 Auth Road, Camp Springs, MD 20746. Tel: 301-763-8231 X166.

Information Contacts: Administrative questions: Kathy LeFevre, by phone at 301-763-8127 ext. 103, fax: 301-763-8108, or e-mail: Kathy.LeFevre@noaa.gov. Technical questions: William Pichel (NOAA Program Officer), by phone at 301-763-8231 ext. 166, or fax to 301-763-8020, or via e-mail: William.G.Pichel@noaa.gov.

Eligibility: Eligible applications can be from U.S. institutions of higher education, other non-profits, commercial organizations, and State, local and indian tribal governments. U.S. Federal agencies or institutions are eligible to receive Federal assistance under this Notice as sub-awardees only and are limited in the amount of assistance to be received to not more than 25% of the total budget (direct plus indirect costs) requested in the proposal.

Cost Sharing Requirements: None.

Intergovernmental Review: Applications under this program are not subject to Executive Order 12372, “Intergovernmental Review of Federal Programs.”

2. Research in Satellite Data Assimilation for Numerical and Climate Prediction Models

Summary Description: The Joint Center for Satellite Data Assimilation (JCSDA) announces the availability of Federal assistance for research in the area of satellite data assimilation in numerical weather and climate prediction models. The goal of the JCSDA is to accelerate the use of observations from earth-orbiting satellites in operational numerical prediction models for the purpose of improving weather forecasts, improving seasonal to interannual climate forecasts, and increasing the physical accuracy of climate data sets. The advanced instruments of current and planned NOAA, NASA, DoD, and international agency satellite missions will provide large volumes of data on atmospheric, oceanic, and land surface conditions with accuracies and spatial resolutions never before achieved. The JCSDA will ensure that the nation realizes the maximum benefit of its investment in space as part of an advanced global observing system. Funded proposals will help accelerate the use of satellite data from both operational and experimental spacecraft in operational and product driven weather and climate prediction environments, develop community radiative transfer models, develop improved surface emissivity models, and advance data assimilation science. This Federal Funding Opportunity is being managed by NOAA on behalf of the JCSDA. Applicants are encouraged to submit a Letter of Intent (LOI) describing the proposed work and its relevance to targeted priority project areas. The purpose of the LOI process is to provide information to potential applicants on the relevance of their proposed project to JCSDA and the likelihood of it being funded in advance of preparing a full proposal.

Funding Availability: Total funding available is anticipated to be approximately $1 million. Individual annual awards in the form of grants or cooperative agreements are expected to range from $50,000 to $150,000.

Statutory Authority: Statutory authorities for this program are provided under 15 U.S.C. 313, 49 U.S.C. 44720(b); 15 U.S.C. 2901 et seq.

Catalog of Federal Domestic Assistance (CFDA) Number: 11.440, Environmental Sciences, Applications, Data, and Education.

Preapplication/Application Deadline: Letters of Intent (LOIs) must be received by NOAA/NESDIS no later than 5 p.m. eastern daylight time, August 1, 2005, and full proposals must be received no later than 5 p.m. eastern daylight time, October 3, 2005.

Address for Submitting Letters of Intent and Proposals: LOIs must be mailed or e-mailed to James G. Yoe, Deputy Director, Joint Center for Satellite Data Assimilation, 5200 Auth Road, Room 701, Camp Springs, MD 20746-4304, e-mail to: James.G.Yoe@noaa.gov. Full proposals should be submitted through http://www.grants.gov/ unless the applicant does not have Internet access. In that case hard copies may be sent to the above address.

Information Contact(s): James G. Yoe, JCSDA, NOAA/NESDIS, 5200 Auth Road, Room 810; Camp Springs, Maryland 20746, or by phone at 301-763-8172 ext. 186, or fax to 301-763-8149, or via Internet at James.G.Yoe@noaa.gov or Kathy LeFevre, NOAA/NESDIS; 5200 Auth Road, Room 701; Camp Springs, Maryland 20746, or by phone at 301-763-8127 ext. 107, or fax to 301-763-8108, or via Internet at Kathy.LeFevre@noaa.gov.

Eligibility: Eligible applicants are institutions of higher education, other nonprofits, commercial organizations, international organizations, and state, local and Indian tribal governments. Federal agencies or institutions are not eligible to receive Federal assistance under this notice.

Cost Sharing Requirements: None.

Intergovernmental Review: Applications under this program are not subject to Executive Order 12372, “Intergovernmental Review of Federal Programs.”

3. Research in Primary Vicarious Calibration of Ocean Color Satellite Sensors

Summary Description: The Office of Research and Applications (ORA) announces the availability of Federal assistance in the research area of ocean color satellite sensor calibration and validation. ORA is committed to improving the vicarious calibration capabilities of a Marine Optical Buoy (MOBY) system located in Hawaii, with an ultimate goal of a continuous, climate-quality time-series of normalized water-leaving spectral radiances across multiple agency missions and ocean color satellite sensors. Research efforts are focused on the reduction of the total uncertainty budget in the determination of the normalized water-leaving radiances from MOBY measurements, improvements in the process used with the MOBY system for validation of ocean color satellite sensor retrievals of water-leaving spectral radiances, and the development of new MOBY system components which would increase measurement integrity. These advances in vicarious calibration capabilities would improve the quality and accuracy of ocean color satellite sensor bio-optical product retrievals.

Funding Availability: Funding is anticipated to range from a minimum of $900,000 to a maximum of $1,100,000 per year for no more than two years. Only one applicant will receive an award.

Statutory Authority: Statutory authority for this program is provided under 33 U.S.C. 883d and 33 U.S.C. 1442.

Catalog of Federal Domestic Assistance (CFDA) Number: 11.440, Environmental Sciences, Applications, Data, and Education.

Application Deadline: Proposals must be received by 4 p.m. eastern daylight time on September 1, 2005. For proposals submitted through http://www.grants.gov, a date and time receipt indication is included and will be the basis of determining timeliness. Hard copy proposals will be date and time stamped when they are received in the program office.

Address for Submitting Proposals: Hard copy proposals should be sent to Marilyn Yuen-Murphy; DOC/NOAA/NESDIS/ORA; 5200 Auth Rd., Rm. 104; Camp Springs, MD 20746. Electronic applications should be submitted through Grants.gov.

Information Contact(s): Marilyn Yuen-Murphy by telephone (301-763-8102 x159), fax (301-763-8020), or e-mail (Marilyn.Yuen.Murphy@noaa.gov); or Kathy LeFevre by telephone (301-763-8127 x103), fax (301-763-8108), or e-mail (Kathy.Lefevre@noaa.gov).

Eligibility: Eligible applicants are U.S. institutions of higher education, other non-profits, commercial organizations, and state, local and Indian tribal governments.

Cost Sharing Requirements: None.

Intergovernmental Review: Applications under this program are not subject to Executive Order 12372, “Intergovernmental Review of Federal Programs.”

National Marine Fisheries Service

1. Protected Species Conservation and Recovery With States

Summary Description: The National Marine Fisheries Service (NMFS) announces the availability of Federal assistance to support the conservation of threatened and endangered species, recently de-listed species, candidate species, and species of concern under the jurisdiction of the NMFS or under the joint jurisdiction of the NMFS and the U.S. Fish and Wildlife Service (e.g., sea turtles). Any state that has entered into an agreement with the NMFS and maintains an adequate and active program for the conservation of endangered and threatened species pursuant to section 6(c) of the Endangered Species Act of 1973 (ESA) is eligible to apply. These financial assistance awards can be used to support management, research, monitoring, or outreach activities that provide direct conservation benefits to listed species, recently de-listed species, candidate species, or species of concern that reside within that state. Projects involving North Atlantic right whales will not be considered for funding under this grant program; such projects may be funded under the North Atlantic Right Whale Research Program.

Funding Availability: Approximately $1.0M in funding may be available for grants in FY 2006. Award periods may extend up to 3 years with annual funding contingent on the availability of Federal appropriations. There are no restrictions on maximum or minimum award amounts.

Statutory Authority: Under section 6 of the ESA, the NMFS is authorized to provide Federal assistance to eligible states for the purpose of conserving marine and anadromous species that reside within that state (16 U.S.C. 1535).

Catalog of Federal Domestic Assistance: 11.472, Unallied Science Programs.

Application Deadline: Proposals must be received by 5 p.m. eastern time on September 9, 2005.

Address for Submitting Proposals: Applicants are encouraged to submit proposals online through Grants.gov. If online submission is not possible, applications may also be submitted to NOAA/NMFS/Office of Protected Resources, Attn: Lisa Manning, 1315 East-West Highway, room 13633, Silver Spring, MD 20910; e-mail: lisa.manning@noaa.gov.

Information Contacts: Lisa Manning, 1315 East-West Highway, Silver Spring, MD 20910; e-mail: lisa.manning@noaa.gov; phone: 301-713-1401.

Eligibility: Eligible applicants are states or their respective state agencies that have entered into an agreement with the NMFS pursuant to section 6(c) of the ESA. The term “State” means any of the several States, the District of Columbia, the Commonwealth of Puerto Rico, American Samoa, the Virgin Islands, Guam, and the Trust Territory of the Pacific Islands. The term “State agency” means any State agency, department, board, commission, or other governmental entity that is responsible for the management and conservation of fish, plant, or wildlife resources within a State.

Cost Sharing Requirements: In accordance with section 6(d) of the ESA, all proposals submitted must include a minimum non-Federal cost share of 25 percent of the total budget if the proposal involves a single state. If a proposal involves collaboration of two or more states, the minimum non-Federal cost share decreases to 10 percent of the total project budget.

Intergovernmental Review: Applications under this program are subject to Executive Order 12372, “Intergovernmental Review of Federal Programs.”

2. John H. Prescott Marine Mammal Rescue Assistance Grant Program

Summary Description: NMFS is inviting eligible marine mammal stranding network participants to submit proposals to fund the recovery or treatment (i.e., rescue and rehabilitation) of live stranded marine mammals, data collection from living or dead stranded marine mammals for scientific research regarding marine mammal health, and facility operations directly related to the recovery or treatment of stranded marine mammals and collection of data from living or dead stranded marine mammals. The Prescott Grant Program is administered through the NMFS Marine Mammal Health and Stranding Response Program (MMHSRP). It is anticipated that awards funded through the Prescott Grant Program will facilitate achievement of MMHSRP goals and objectives by providing financial assistance to eligible stranding network participants. Proposals selected for funding through this solicitation will be implemented through either a grant or cooperative agreement.

Funding Availability: Funding of up to $4,000,000 is expected to be available in FY 2006. The maximum Federal award for each grant cannot exceed $100,000, as stated in the legislative language (16 U.S.C. 1421f-1). Applicants are hereby given notice that these funds have not yet been appropriated for this program and therefore exact dollar amounts cannot be given.

Statutory Authority: The Marine Mammal Rescue Assistance Act of 2000 amended the Marine Mammal Protection Act (MMPA) to establish the John H. Prescott Marine Mammal Rescue Assistance Grant Program (16 U.S.C. 1421f-1).

Catalog of Federal Domestic Assistance: 11.439 Marine Mammal Data Program.

Application Deadline: Applications for funding under the Prescott program must be received by or postmarked by 11:59 p.m. eastern daylight time on August 15, 2005.

Address for Submitting Proposals: Applications should either be submitted online at http://www.grants.gov or sent to: NOAA/NMFS/Office of Protected Resources, Marine Mammal Health and Stranding Response Program, Attn: Michelle Ordono, 1315 East-West Highway, Room 12604, Silver Spring, MD 20910-3283, phone 301-713-2322 ext 177.

Information Contact(s): Janet Whaley, Michelle Ordono, or Sarah Wilkin at (301) 713-2322, by fax at (301) 713-0376, or by e-mail at Janet.Whaley@noaa.gov, Michelle.Ordono@noaa.gov, or Sarah.Wilkin@noaa.gov.

Eligibility: There are 5 categories of eligible stranding network participants that may apply for funds under this Program: (1) Letter of Agreement (LOA) holders; (2) LOA designee organizations; (3) researchers; (4) official Northwest Region participants; and, (5) State, local, eligible Federal government employees or tribal employees or personnel. In order for these organizations and individuals to apply for award funds under the Prescott Grant Program, they must meet eligibility criteria specific to their category of participation.

Cost Sharing Requirements: All proposals submitted must provide a minimum non-Federal cost share of 25 percent of the total budget (i.e., .25 x total project costs = total non-Federal share).

Intergovernmental Review: Applications under this program are subject to Executive Order 12372, “Intergovernmental Review of Federal Programs.”

3. Community-Based Marine Debris Prevention and Removal Project Grants

Summary Description: NMFS is inviting the public to submit proposals for funding available through the NOAA Marine Debris Program (MDP) to implement grass-roots projects to prevent or remove marine debris that will benefit living marine resource habitats and navigational waterways. Projects funded through the NOAA Community-based Marine Debris Prevention and Removal Project Grants competition will be expected to have strong on-the-ground marine debris prevention or removal components that provide educational and social benefits for people and their communities in addition to long-term ecological habitat improvements for NOAA trust resources. Proposals selected for funding through this solicitation will be implemented through cooperative agreements. Marine debris removal may include, but is not limited to:

• Detection and removal of derelict fishing gear;

• Removal of solid waste material in coastal habitats including marshes, bays, mangroves, and coral reefs;

• Shoreline clean-ups including a targeted outreach/education component;

• Removal of debris from marine, estuarine or beach environments resulting from hurricanes or other natural disasters;

• Detection and removal of derelict pilings, bulkheads and similar obsolete materials that pose a hazard to navigation or diminish habitat quality.

Marine debris prevention may include, but is not limited to:

• Training for the safe removal of derelict fishing gear, ghost nets, and other debris adversely impacting coastal habitats;

• Monitoring cleaned areas to determine re-accumulation rates;

• Prevention activities related to reception facilities at marinas and fishing ports including recycling initiatives for monofilament fishing line and other types of fishing gear, or debris; and

• The development of debris reduction incentives for prevention, removal, and safe disposal of plastics and derelict fishing gear.

Funding Availability: Funding of up to $2,000,000 is expected to be available for Community-based Marine Debris Prevention and Removal Projects in FY 2006. The NOAA Restoration Center anticipates that typical project awards will range from $15,000 to $100,000.

Statutory Authority: The Secretary of Commerce is authorized under the Marine Plastic Pollution Research and Control Act, 33 U.S.C. 1901 et seq., to award grants, enter into cooperative agreements with appropriate officials of other Federal agencies and agencies of States and political subdivisions of States and with public and private entities, and provide other financial assistance to eligible recipients to educate the public (including recreational boaters, fishermen, and other users of the marine environment) regarding the harmful effects of plastic pollution; the need to reduce such pollution; the need to recycle plastic materials.

Catalog of Federal Domestic Assistance: 11.463 Habitat Conservation.

Application Deadline: Applications for project funding under the MDP must be submitted via grants.gov by 11:59 p.m. e.s.t. on October 12, 2005 or if mailed, postmarked by 11:59 p.m. e.s.t. on October 12, 2005.

Address for Submitting Proposals: Applicants should apply through http://www.grants.gov. If Internet access is unavailable, paper applications should be sent to Christopher D. Doley, Director, NOAA Restoration Center, National Marine Fisheries Service, 1315 East West Highway (F/HC3), Silver Spring, MD 20910; ATTN: MDP Project Applications.

Information Contact(s): For further information contact Elizabeth Fairey (Liz.Fairey@noaa.gov or 301-713-3459) or Robin Bruckner (Robin.Bruckner@noaa.gov or 301-713-0174).

Eligibility: Eligible applicants are institutions of higher education, hospitals, other non-profits, commercial (for profit) organizations, organizations under the jurisdiction of foreign governments, international organizations, State, local and Indian tribal governments. Applications from Federal agencies or employees of Federal agencies will not be considered.

Cost Sharing Requirements: 1:1 non-Federal match is encouraged and will be considered in the review process, but applicants with less than 1:1 match will not be disqualified.

Intergovernmental Review: Applications under this program are subject to Executive Order 12372, “Intergovernmental Review of Federal Programs.”

4. Projects To Improve or Amend Coral Reef Fishery Management Plans

Summary Description: The NOAA Coral Reef Conservation Program is soliciting applications from the Regional Fishery Management Councils for projects to conserve and manage coral reef fishery resources. The objectives of this program are to reduce the adverse impacts of fishing and other extractive uses within coral reef ecosystems, and incorporate conservation and sustainable management measures into existing or new Federal fishery management plans (FMPs) for coral reef species. Projects must address one or more of the following 7 categories: (1) Identification, mapping and characterization of EFH, HAPC, or reef fish spawning aggregation sites; (2) monitoring reef fish stocks; (3) efforts to reduce overfishing of coral reef resources; (4) identification and reduction of adverse effects of fishing gear, including the elimination of destructive and habitat-damaging fishing practices; (5) assessment of the adequacy of current coral reef fishing regulations; (6) education and outreach efforts to recreational and commercial fishers; and (7) ecosystem-scale studies and inclusion of ecosystem approaches into coral reef FMPs. Priority will be given for coral reef activities in the Council's jurisdiction, although complementary activities of high conservation value within state waters that are fully coordinated with appropriate state, territory or commonwealth management authorities are also acceptable. This program is part of the Coral Reef Conservation Program under the Coral Reef Conservation Act of 2000 and is not intended to support normal Council activities or responsibilities. Proposals can include the support for a maximum of one full-time equivalent working exclusively on Council coral reef conservation activities. Councils may submit an application of up to 25 pages that includes a cover sheet, project summary, narrative project description, narrative budget summary and Federal forms. Selected applicants may be asked to revise award objectives, work plans or budgets prior to submission of a final application.

Funding Availability: The total anticipated available funding is $1,050,000 with a maximum of $525,000 available for activities in the Western Pacific, and a maximum of $525,000 available for activities in the South Atlantic, Gulf of Mexico, and Caribbean. Funding will be subject to the availability of Federal appropriations.

Statutory Authority: 16 U.S.C. 6403.

Catalog of Federal Domestic Assistance (CFDA) Number: 11.441 Regional Fishery Management Councils.

Application Deadlines: Applications must be received before midnight, eastern standard time, on November 15, 2005. Final revised applications must be received before midnight, eastern standard time on March 3, 2006.

Address for Submitting Proposals: Applications should be submitted electronically to http://www.grants.gov, or by surface mail to David Kennedy, NOAA Coral Reef Conservation Program, Office of Response and Restoration, N/ORR, Room 10102, NOAA National Ocean Service, 1305 East-West Highway, Silver Spring, MD 20910.

Information Contact(s): Andy Bruckner, Office of Habitat Conservation, F/HC1, Room 15836, NOAA Fisheries Service, 1315 East-West Highway, Silver Spring, MD 20910, phone 301-713-3459 extension 190, e-mail at andy.bruckner@noaa.gov.

Eligibility: Applicants are limited to the Western Pacific Regional Fishery Management Council, the South Atlantic Fishery Management Council, the Gulf of Mexico Fishery Management Council, and the Caribbean Fishery Management Council.

Cost Sharing Requirements: None.

Intergovernmental Review: Applications under this program are not subject to Executive Order 12372, “Intergovernmental Review of Federal Programs.”

5. Community-based Habitat Restoration Project Grants

Summary Description: NMFS is inviting the public to submit proposals for available funding to implement grass-roots habitat restoration projects that will benefit living marine resources, including anadromous fish, under the NOAA Community-based Restoration Program (CRP). Projects funded through the CRP will be expected to have strong on-the-ground habitat restoration components that provide long-term ecological habitat improvements for NOAA trust resources as well as educational and social benefits for people and their communities. Proposals selected for funding through this solicitation will be implemented through cooperative agreements.

Funding Availability: Funding of up to $3,000,000 is expected to be available for Community-based Habitat Restoration Project Grants in FY 2006. The NOAA Restoration Center (RC) anticipates that typical project awards will range from $50,000 to $200,000.

Statutory Authority: The Secretary of Commerce is authorized under the Fish and Wildlife Coordination Act, 16 U.S.C. 661, as amended by the Reorganization Plan No. 4 of 1970, to provide grants or cooperative agreements for fisheries habitat restoration.

Catalog of Federal Domestic Assistance: 11.463 Habitat Conservation.

Application Deadline: Applications for project funding under the CRP must be submitted via grants.gov by 11:59 PM EST, October 12, 2005 or if mailed, postmarked by 11:59 p.m. e.s.t., October 12, 2005.

Address for Submitting Proposals: Applicants should apply through http://www.grants.gov. If internet access is unavailable, paper applications should be sent to Christopher D. Doley, Director, NOAA Restoration Center, National Marine Fisheries Service, 1315 East West Highway (F/HC3), Silver Spring, MD 20910-3282; ATTN: CRP Project Applications.

Information Contact(s): Melanie Gange or Robin Bruckner at (301) 713-0174, or by fax at (301) 713-0184, or by e-mail at Melanie.Gange@noaa.gov or Robin.Bruckner@noaa.gov.

Eligibility: Eligible applicants are institutions of higher education, hospitals, other non-profits, commercial (for profit) organizations, organizations under the jurisdiction of foreign governments, international organizations, State, local and Indian tribal governments. Applications from Federal agencies or employees of Federal agencies will not be considered.

Cost Sharing Requirements: 1:1 non-Federal match is encouraged, but applicants with less than 1:1 match will not be disqualified. The nature of the contribution (cash versus in-kind) and the amount/value will be considered in the review process.

Intergovernmental Review: Applications under this program are subject to Executive Order 12372, “Intergovernmental Review of Federal Programs.”

6. Chesapeake Bay Watershed Education & Training (B-WET) Program

Summary Description: The Chesapeake B-WET grant program is a competitively based program that supports existing environmental education programs, fosters the growth of new programs, and encourages the development of partnerships among environmental education programs throughout the entire Chesapeake Bay watershed. Funded projects assist in meeting the Stewardship and Community Engagement goals of the Chesapeake 2000 Agreement. Projects support organizations that provide students “meaningful” Chesapeake Bay or stream outdoor experiences and teachers professional development opportunities in the area of environmental education related to the Chesapeake Bay watershed.

Funding Availability: This solicitation announces that approximately $2.2M may be available in FY 2006 in award amounts to be determined by the proposals and available funds. Annual funding is anticipated to maintain partnerships for up to 3 years duration, but is dependant on funding made available by Congress. Applicants are hereby given notice that funds have not yet been appropriated for this program.

1. About $1.0M will be for exemplar programs that successfully integrate teacher professional development in the Chesapeake Bay watershed with in-depth classroom study and outdoor experiences for their students.

2. About $600K will be for proposals that provide opportunities for students (K through 12) to participate in “Meaningful” Watershed Educational Experiences related to Chesapeake Bay.

3. About $600K will be for proposals that provide opportunities for Professional Development in the area of Chesapeake Bay watershed education for teachers.

The NOAA Chesapeake Bay Office anticipates that typical awards for B-WET Exemplar Programs that successfully integrate teacher professional development with in-depth classroom student and outdoor experiences for their students will range from $50,000 to $200,000. Projects that represent either meaningful watershed educational experiences for students or teacher professional development in watershed education will range from $10,000 to $100,000.

Statutory Authority: 16 U.S.C. 661; 15 U.S.C. 1540.

Catalog of Federal Domestic Assistance: 11.457; Chesapeake Bay Studies, Education.

Application Deadline: Proposals must be received by 5 p.m. eastern time on October 24, 2005.

Address for Submitting Proposal: Electronic submission: http://www.grants.gov/. Search using the following Federal Funding Opportunity Number: [XXXXXX]. Hard copies may be submitted by postal mail, commercial delivery service, or hand-delivery. Proposals being submitted in hard copy must be sent to: NOAA Chesapeake Bay Office; Education Coordinator; 410 Severn Avenue, Suite 107A; Annapolis, Maryland 21403.

Information Contact(s): Shannon W. Sprague, NOAA Chesapeake Bay Office, 410 Severn Avenue, Suite 107A, Annapolis, MD 2140. Shannon.Sprague@noaa.gov or 410-267-5664.

Eligibility: Eligible applicants are K-through-12 public and independent schools and school systems, institutions of higher education, community-based and nonprofit organizations, State or local government agencies, interstate agencies, and Indian tribal governments in the Chesapeake Bay watershed.

Cost Sharing Requirements: No cost sharing is required under this program, however, the NCBO strongly encourages applicants applying for either area of interest to share as much of the costs of the award as possible. Funds from other Federal awards may not be considered matching funds. The nature of the contribution (cash versus in-kind) and the amount of matching funds will be taken into consideration in the review process. Priority selection will be given to proposals that propose cash rather than in-kind contributions.

Intergovernmental Review: Applications under this program are not subject to Executive Order 12372, “Intergovernmental Review of Federal Programs.”

7. FY06 Western Pacific Demonstration Projects

Project Summary: NMFS is soliciting applications for financial assistance for Western Pacific Demonstration Projects. Eligible applicants are encouraged to submit projects intended to foster and promote use of traditional indigenous fishing practices and/or develop or enhance Western Pacific community-based fishing opportunities benefiting the island communities in American Samoa, Guam, Hawaii, and the Northern Mariana Islands. Projects may also request support for research and the acquisition of materials and equipment necessary to carry out such project proposals.

Funding Availability: Total funding available is anticipated to be approximately $500,000. It is anticipated that 3 to 5 awards will be made for each fiscal year covered by this notice.

Statutory Authority: The Secretary is authorized to make direct grants to eligible western Pacific communities pursuant to Section 111(b) of Pub. L. 104-297, as amended, and published within 16 U.S.C. 1855 note.

Catalog of Federal Domestic Assistance: 11.452, Unallied Industry Projects.

Application Deadline: Project proposals and completed grant applications must be postmarked or received by 5 p.m. Hawaii standard time on October 28, 2005. Applicants are strongly encouraged to apply electronically at http://www.grants.gov.

Address for Submitting Proposals: Project proposals and grant applications must be sent to: the Federal Program Officer for Western Pacific Demonstration Projects, Pacific Islands Region, National Marine Fisheries Service, 1601 Kapiolani Boulevard, Suite 1110, Honolulu, Hawaii 96814.

Information Contacts: Scott W.S. Bloom (NMFS) at 808-973-2937, or by e-mail at Scott.Bloom@noaa.gov; or Charles Ka'ai'ai (Council), 808-522-8220 or by e-mail at Charles.Kaaiai@noaa.gov.

Eligibility: Eligible applicants are limited to communities in the Western Pacific Regional Fishery Management Area, as defined at section 305(i)(2)(D) of the Magnuson-Stevens Fishery Conservation and Management Act (Magnuson-Stevens Act), 16 U.S.C. 1855(i)(2)(D); and meet the standards for determining eligibility set forth in section 305(i)(2)(B) of the Act, 16 U.S.C. 1855(i)(2)(B). The eligibility criteria developed by the Council and approved by the Secretary to participate in western Pacific community development programs was published in the Federal Register on April 16, 2002 (67 FR 18512, 18513).

Cost Sharing Requirements: None.

Intergovernmental Review: Applications under this program are subject to Executive Order 12372, “Intergovernmental Review of Federal Programs”.

8. MARFIN Fisheries Initiative Program (MARFIN) FY 2006

Summary Description: The NMFS Southeast Regional Office is inviting the public to submit research and development projects that will optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing. Proposals may be selected for funding for up to three years through a cooperative agreement.

Funding Availability: Approximately $2.5 million may be available in fiscal year (FY) 2006 for projects. This amount includes possible in-house projects. The NMFS Southeast Regional Office anticipates that typical project awards will range from $35,000 to $300,000. The average award is $108,000.

Statutory Authority: 15 U.S.C. 713c-3(d).

Catalog of Federal Domestic Assistance: 11.433 Marine Fisheries Initiative.

Application Deadline: We must receive your application by close of business (5 p.m. eastern daylight time) on August 15, 2005. Applications received after that time will not be considered for funding.

Address for Submitting Proposals: Applications should be submitted through http://www.grants.gov. If an applicant does not have Internet access, hard copies should be sent to the National Marine Fisheries Service, State/Federal Liaison Branch, 263 13th Avenue South, St. Petersburg, FL 33701.

Information Contact: Scot Plank, State/Federal Liaison Branch at (727) 824-5324.

Eligibility: Eligible applicants include Institutions of higher education, other nonprofits, commercial organizations, State, local and Indian tribal governments. Federal agencies or institutions are not eligible. Foreign governments, organizations under the jurisdiction of foreign governments, and international organizations are excluded for purposes of this solicitation since the objective of the MARFIN program is to optimize research and development benefits from U.S. marine fishery resources.

Cost Sharing Requirements: Cost-sharing is not required.

Intergovernmental Review: Applications under this program are subject to Executive Order 12372, “Intergovernmental Review of Federal Programs.”

9. Cooperative Research Program (CRP) FY 2006

Summary Description: The NMFS Southeast Regional Office is inviting the public to submit research and development projects that seek to increase and improve the working relationship between researchers from the NMFS, state fishery agencies, universities, and fishermen. The program is a means of involving commercial and recreational fishermen in the collection of fundamental fisheries information. Collection efforts support the development and evaluation of management and regulatory options. Projects accepted for funding will need to be completed within 24 months.

Funding Availability: Approximately $2.0 million may be available in fiscal year 2006 for projects. The NMFS Southeast Regional Office anticipates that typical project awards will range from $40,000 to $475,000. The average award is $190,000.

Statutory Authority: 15 U.S.C. 713c-3(d).

Catalog of Federal Domestic Assistance: 11.454 Unallied Management Projects.

Application Deadline: We must receive your application by 5 p.m. eastern daylight time on August 29, 2005. Applications received after that time will not be considered for funding.

Address for Submitting Proposals: Applications should be submitted through http://www.grants.gov. If an applicant does not have Internet access, hard copies should be sent to the National Marine Fisheries Service, State/Federal Liaison Branch, 263 13th Avenue South, St. Petersburg, FL 33701.

Information Contact: Scot Plank, State/Federal Liaison Branch at (727) 824-5324.

Eligibility: Eligible applicants include Institutions of higher education, other nonprofits, commercial organizations, state, local and Indian tribal governments and individuals. Federal agencies or institutions are not eligible. Foreign governments, organizations under the jurisdiction of foreign governments, and international organizations are excluded for purposes of this solicitation since the objective of the CRP is to optimize research and development benefits from U.S. marine fishery resources. Applicants who are not commercial or recreational fisherman must have commercial or recreational fishermen participating in their project. There must be a written agreement with a fisherman describing the involvement in the project activity. All applicants must include a written agreement with a person employed by the National Marine Fisheries Service (NMFS), who will act as a partner in the proposed research project. The NMFS partner will assist the applicant to develop a design (statistical or analytical) for the project to assure that the outcome will provide suitable, scientific data and results to support needed fisheries management information.

Cost Sharing Requirements: Cost-sharing is not required.

Intergovernmental Review: Applications under this program are subject to Executive Order 12372, “Intergovernmental Review of Federal Programs.”

10. North Atlantic Right Whale Research Programs

Summary Description: The National Marine Fisheries Service (NMFS) is soliciting applications for Federal assistance under the North Atlantic Right Whale Grant Program (RWGP). Under the RWGP, NMFS provides financial assistance to eligible researchers working within waters inhabited by North Atlantic right whales and submitting applications pertaining only to this species. Applications must fall within at least one of the following 9 categories: (1) Detection and tracking of right whales; (2) Behavior of right whales in relation to ships; (3) Relationships between vessel speed, size or design with whale collisions; (4) Modeling of ship traffic along the Atlantic coast; (5) Population monitoring and assessment studies; (6) Reproduction, health and genetic studies; (7) Development of a Geographic Information System database or other system designed to investigate predictive modeling of right whale distribution in relation to environmental variables; (8) Habitat quality studies including food quality and pollutant levels; and (9) Any other work relevant to the recovery of North Atlantic right whales.

Funding Availability: This solicitation announces that a maximum of $1.0M may be available for distribution under the FY 2006 RWRGP. Applicants are hereby given notice that funds have not yet been appropriated for this program. The exact amount of funds that may be awarded will be determined in pre-award negotiations between the applicant and NOAA representatives. Publication of this notice does not oblige NOAA to award any specific project or to obligate any available funds. There is no set minimum or maximum amount for any award, and there is no limit on the number of applications that can be submitted by the same researcher during the 2006 competitive grant cycle. Note that in FY 2004, the last year in which there was a competition in this program, 15 awards were made, with a range of $35,000 to $200,000 per year. If an application for a financial assistance award is selected for funding, NOAA/NMFS has no obligation to provide any additional funding in connection with that award in subsequent years.

Statutory Authority: 16 U.S.C. 1380.

Catalog of Federal Domestic Assistance: 11.472, Unallied Science Program.

Application Deadline: The application package must be postmarked by 5 p.m. EST August 1, 2005.

Address for Submitting Proposals: Proposals should be submitted through http://www.grants.gov. Search using the following funding opportunity # NMFS-NEFSC-2005-2000252. Applicants without Internet access can submit proposals to Kelly Taranto, NMFS, Northeast Fisheries Science Center, 166 Water Street, Woods Hole, MA 02543. Mark the proposal: “Attention-Right Whale Research Grant Program.”

Information Contact(s): Dr. Richard Pace, Northeast Fisheries Science Center, 166 Water Street, Woods Hole, MA 02543, 508 495-2316, e-mail rightwhalegrants@noaa.gov.

Eligibility: Eligible applicants are individuals, institutions of higher education, other nonprofits, commercial organizations, international organizations, foreign governments, organizations under the jurisdiction of foreign governments, and state, local and Indian tribal governments. Federal agencies, or employees of Federal agencies are not eligible to apply.

Cost Sharing Requirements: None.

Intergovernmental Review: Applications under this program are subject to Executive Order 12372, “Intergovernmental Review of Federal Programs.”

11. General Coral Reef Conservation

Summary Description: The NOAA Coral Reef Conservation Program is soliciting proposals to support conservation projects for coral reef ecosystems of the United States and the Freely Associated States in the Pacific (Republic of Palau, the Republic of the Marshall Islands, and the Federated States of Micronesia). This program is part of the Coral Reef Conservation Program under the Coral Reef Conservation Act of 2000, which provides matching grants of financial assistance for coral reef conservation projects that: (1) Help preserve, sustain and restore the condition of coral reef ecosystems, (2) promote the wise management and sustainable use of coral reef resources, (3) increase public knowledge and awareness of coral reef ecosystems and issues regarding their conservation and (4) develop sound scientific information on the condition of coral reef ecosystems and the threats to such ecosystems. Projects must address one of the following 7 categories: Coral reef monitoring and assessment; socio-economic assessments and resource valuation; marine protected areas and associated management activities; coral reef fisheries management and enforcement; coral reef restoration; public education and outreach; and local action strategy implementation. Research activities are eligible only if they directly relate to management or are listed as a project within a local action strategy. Interested applicants should submit an application of up to 25 pages that includes a cover sheet, project summary, narrative project description, narrative budget summary, CV, letter(s) of support and Federal forms.

Funding Availability: Total anticipated available funding is $600,000, of which up to $100,000 is for specific local action strategy projects with the remainder divided approximately equally among the other 6 categories. Individual awards in the form of grants can range from $15,000 to a maximum of $50,000. Applications for awards for more than $50,000 will not be accepted. Funding will be subject to the availability of federal appropriations.

Statutory Authority: 16 U.S.C. 6403.

Catalog of Federal Domestic Assistance (CFDA) Number: 11.463 Habitat Conservation.

Application Deadline: Applications are due to NOAA before midnight, eastern standard time, November 15, 2005. Final revised applications must be received no later than midnight, eastern standard time. March 3, 2006. Proposals received after these deadlines will not be accepted.

Address for Submitting Proposals: Applications should be submitted electronically to http://www.grants.gov, or by surface mail to David Kennedy, NOAA Coral Reef Conservation Program, Office of Response and Restoration, N/ORR, Room 10102, NOAA National Ocean Service, 1305 East West Highway, Silver Spring, MD 20910.

Information Contact(s): Andy Bruckner, Office of Habitat Conservation, F/HC1, Room 15836, NOAA Fisheries Service, 1315 East West Highway, Silver Spring, MD 20910, phone 301-713-3459 extension 190, e-mail at andy.bruckner@noaa.gov.

Eligibility: Eligible applicants include institutions of higher education, non-profit organizations, commercial organizations, Freely Associated State government agencies, and local and Indian tribal governments. U.S. Federal, State, Territory, and Commonwealth government agencies are not eligible under this program.

Cost Sharing Requirements: 1:1 non-federal match is required. The NOAA Administrator may waive all or part of the matching requirement if the Administrator determines that the project meets the following two requirements: (1) No reasonable means are available through which an applicant can meet the matching requirement, and (2) The probable benefit of such project outweighs the public interest in such matching requirement. In the case of a waiver request, the applicant must provide a detailed justification explaining the need for the waiver.

Intergovernmental Review: Applications under this program are subject to Executive Order 12372, “Intergovernmental Review of Federal Programs.”

National Ocean Service

1. NOAA Coral Reef Conservation Grant Program—State and Territory Coral Reef Management

Summary Description: This program is soliciting proposals to support comprehensive projects for the conservation and management of coral reefs and associated fisheries in the jurisdictions of Puerto Rico, the U.S. Virgin Islands, Florida, Hawaii, Guam, the Commonwealth of the Northern Mariana Islands and American Samoa. Funding will also support jurisdictional participation in national coral reef planning activities, such as U.S. Coral Reef Task Force meetings. This program is part of the NOAA Coral Reef Conservation Grant Program under the Coral Reef Conservation Act of 2000 which provides matching grants of financial assistance for coral reef conservation projects. NOS will accept pre-applications for peer review. Selected applicants may be asked to revise award objectives, work plans or budgets prior to submittal of a final application, including required Federal financial assistance forms, to NOS.

Funding Availability: Approximately $4,000,000 may be available in FY 2006 to support awards under this program. Each eligible jurisdiction can apply for a maximum of $685,000. A minimum of 40% of the final award amount must be dedicated to the implementation and support of the Local Action Strategy initiative in each jurisdiction. Funding is subject to the availability of federal appropriations.

The amount of funding awarded to each jurisdiction will be subject to the eligibility and evaluation requirements described in this announcement.

Statutory Authority: 16 U.S.C. 6403.

Catalog of Federal Domestic Assistance: 11.419, Coastal Zone Management Program.

Application Deadline: Initial Application/Final Application Deadline: Pre-applications are due to NOAA by 11:59 p.m. eastern time on November 15, 2005. Final applications are due to NOAA by 11:59 p.m. eastern time on March 3, 2006.

Address for Submitting Proposals: Address for submitting pre-applications: David Kennedy, NOAA Coral Reef Conservation Program, Office of Response and Restoration, NOAA National Ocean Service, N/ORR, Room 10102, 1305 East West Highway, Silver Spring, MD 20910 or coral.grants@noaa.gov. Submissions by e-mail are preferred.

Address for submitting final applications: http://www.grants.gov, the Federal grants portal. If Internet access is unavailable, hard copies can be submitted to David Kennedy, NOAA Coral Reef Conservation Program, Office of Response and Restoration, N/ORR, Room 10102, NOAA National Ocean Service, 1305 East West Highway, Silver Spring, MD 20910. Applicants are required to include one original and two copies of the signed, hard/paper of the Federal financial assistance forms for each final application package that is not submitted through http://www.grants.gov.

Information Contact(s): Dana Wusinich-Mendez, 1305 East West Highway, 11th Floor, N/ORM3, Silver Spring, MD 20910, phone 301-713-3155 extension 159, e-mail at dana.wusinich-mendez@noaa.gov.

Eligibility: Eligible applicants are the governor-appointed point of contact agencies for coral reef coordination in each of the jurisdictions of American Samoa, Florida, the Commonwealth of the Northern Mariana Islands, Guam, Hawaii, Puerto Rico, and U.S. Virgin Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, ”Intergovernmental Review of Federal Programs.”

2. NOAA Coral Reef Conservation Grant Program—State and Territory Coral Reef Ecosystem Monitoring

Summary Description: This program is soliciting proposals to support implementation of a nationally coordinated, comprehensive, long-term monitoring program to assess the condition of U.S. coral reef ecosystems, and to evaluate the efficacy of coral ecosystem management. This program is part of the NOAA Coral Reef Conservation Grant Program under the Coral Reef Conservation Act of 2000 which provides matching grants of financial assistance for coral reef monitoring projects. NOS will accept pre-applications for peer review. Selected applicants may be asked to revise award objectives, work plans or budgets prior to submittal of a final application, including required Federal financial assistance forms, to NOS.

Funding Availability: Approximately $1,100,000 may be available in FY 2006 to support awards under this program. Each eligible jurisdiction can apply for a maximum $130,000, with the exception of the Republic of Palau, the Federated States of Micronesia, and the Republic of the Marshall Islands which can apply for a maximum of $30,000. The amount of funding awarded to each jurisdiction will be subject to the eligibility and evaluation requirements described in this announcement. Funding is subject to the availability of Federal appropriations.

Statutory Authority: 16 U.S.C. 6403.

Catalog of Federal Domestic Assistance: 11.419, Coastal Zone Management Program.

Application Deadline: Initial Application/Final Application Deadline: Pre-applications are due to NOAA by 11:59 p.m. eastern time on November 15, 2005. Final applications are due to NOAA by 11:59 p.m. eastern time on March 3, 2006.

Address for Submitting Proposals: Address for submitting pre-applications: David Kennedy, NOAA Coral Reef Conservation Program, Office of Response and Restoration, NOAA National Ocean Service, N/ORR, Room 10102, 1305 East West Highway, Silver Spring, MD 20910 or coral.grants@noaa.gov. Submissions by e-mail are preferred.

Address for submitting final applications: http://www.grants.gov, the Federal grants portal. If Internet access is unavailable, hard copies can be submitted David Kennedy, NOAA Coral Reef Conservation Program, Office of Response and Restoration, N/ORR, Room 10102, NOAA National Ocean Service, 1305 East West Highway, Silver Spring, MD 20910. Applicants are required to include one original and two copies of the signed, hard/paper of the Federal financial assistance forms for each final application package that is not submitted through http://www.grants.gov.

Information Contact(s): John Christensen, 1305 East West Highway, 9th Floor, N/SCI1, Silver Spring, MD 20910, phone 301-713-3028 extension 153, e-mail at john.christensen@noaa.gov.

Eligibility: Eligible applicants are the governor-appointed point of contact agencies for coral reef coordination in each of the jurisdictions of American Samoa, Florida, the Commonwealth of the Northern Mariana Islands, Guam, Hawaii, the Republic of Palau, the Federated States of Micronesia (including Kosrae, Pohnpei, Yap, and Chuuk), the Republic of the Marshall Islands, Puerto Rico, and U.S. Virgin Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372,” Intergovernmental Review of Federal Programs.”

3. South Florida Program

Summary Description: NCCOS/CSCOR is soliciting 1-year and 2-year proposals to support coastal ecosystem studies in South Florida including Florida Bay, Florida Keys, the Florida Keys National Marine Sanctuary (FKNMS), and adjacent coastal waters. It will provide support for the NOAA South Florida Program (SFP) and the FKNMS. The overall goal of this announcement is to fund high priority research and long term observational data collection needed to model and predict the impacts of Everglades restoration on the South Florida coastal ecosystem and to fulfill NOAA commitments to the South Florida Ecosystem Restoration effort and the Comprehensive Everglades Restoration Plan (CERP).

Funding Availability: Award amounts will be determined by the proposals and available funds, typically not to exceed $400,000 per project per year with project durations from one to two years. It is anticipated that 4 to 10 total projects will be funded. Support in out years after FY 2006 is contingent upon the availability of funds. Applicants are hereby given notice that funds have not yet been appropriated for this program.

Statutory Authority: Statutory Authority: 33 U.S.C. 1442 C.

Catalog of Federal Domestic Assistance: 11.478 Center for Sponsored Coastal Ocean Research, Coastal Ocean Program CSCOR/COP).

Application Deadline: The deadline for receipt of proposals at the NCCOS/CSCOR office is 3 p.m., eastern time on September 29, 2005.

Address for Submitting Proposals: Applications submitted in response to this announcement are strongly encouraged to be submitted through the Grants.gov Web site. Electronic Access to the full funding announcement for this program is available via the Grants.gov Web site: http://www.grants.gov. The announcement will also be available at the NOAA Web site http://www.ofa.noaa.gov/%7Egrants/funding.shtml or by contacting the program official identified below. If Internet access is unavailable, paper applications (a signed original and two copies) should be submitted to the Center for Sponsored Coastal Ocean Research, Coastal Ocean Program (CSCOR/COP), National Oceanic and Atmospheric Administration, (NOAA), 1305 East West Highway, Room 8243, SSMC Building 4, Silver Spring, MD 20910.

Information Contacts: Technical Information. Larry Pugh, South Florida Program Manager, 301-713-3338 ext 160, Internet: Larry.Pugh@noaa.gov. Business Management Information. Laurie Golden, NCCOS/CSCOR Grants Administrator, 301-713-3338 ext 151, Internet: Laurie.Golden@noaa.gov.

Eligibility: Eligible applicants are institutions of higher education, other non-profits, State, local, Indian tribal governments, and Federal agencies that possess the statutory authority to receive financial assistance. NCCOS/CSCOR will not fund any Federal FTE salaries, but will fund travel, equipment, supplies, and contractual personnel costs associated with the proposed work. Furthermore, no expenses of any kind will be provided for NOS researchers.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

4. Northern Gulf of Mexico Ecosystem Research Program (NGOMEX)

Summary Description: NCCOS/CSCOR is soliciting proposals to support 1 to 3 year studies of coastal ecosystem research related to hypoxia over the Louisiana continental shelf in the northern Gulf of Mexico. Through these multi year, interdisciplinary research projects, NCCOS/CSCOR seeks to develop a fundamental understanding of the northern Gulf of Mexico ecosystem in the region affected by Mississippi River inputs with a focus on the causes and effects of the hypoxic zone over the Louisiana continental shelf and the prediction of its future extent and impacts to ecologically and commercially important aquatic species.

Funding Availability: Funding is contingent upon availability of Federal appropriations. It is anticipated that 4 to 8 total projects will be funded and that $2,000,000 to $4,000,000 per year will be available for projects. CSCOR anticipates that awards will not exceed $500,000 per project per year with project durations from 1 to 3 years. Support in FY 2006 and future years is contingent upon the availability of funds. Applicants are hereby given notice that funds have not yet been appropriated for this program.

Statutory Authority: 33 U.S.C. 1442.

CFDA: 11.478 Center for Sponsored Coastal Ocean Research, Coastal Ocean Program.

Application Deadline: The deadline for receipt of proposals at the CSCOR office is 3 p.m., eastern time, August 24, 2005.

Address for Submitting Proposals: Applications submitted in response to this announcement are strongly encouraged to be submitted through the Grants.gov Web site. Electronic Access to the full funding announcement for this program is available via the Grants.gov Web site: http://www.grants.gov. The announcement will also be available at the NOAA Web site http://www.ofa.noaa.gov/%7Egrants/funding.shtml or by contacting the program official identified below. If Internet access is unavailable, paper applications (a signed original and two copies) should be submitted to the Center for Sponsored Coastal Ocean Research, Coastal Ocean Program (CSCOR/COP), National Oceanic and Atmospheric Administration, (NOAA), 1305 East West Highway, Room 8243, SSMC Building 4, Silver Spring, MD 20910.

Information Contacts: For overall information regarding Technical Information, Larry Pugh, NGOMEX 2006 Program Manager, NCCOS/CSCOR, 301-713-3338/ext 160, Internet: Larry.Pugh@noaa.gov. Business Management Information, Laurie Golden, NCCOS/CSCOR/COP Grants Administrator, 301-713-3338/ext 151, Internet: Laurie.Golden@noaa.gov.

Eligibility: Eligible applicants are institutions of higher education, other non-profits, State, local, Indian tribal governments, and Federal agencies that possess the statutory authority to receive financial assistance.

NCCOS/CSCOR will not fund any Federal FTE salaries, but will fund travel, equipment, supplies, and contractual personnel costs associated with the proposed work. Furthermore, no expenses of any kind will be provided for NOS researchers.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

5. Ecological Forecasting

Summary Description: The NOAA/NOS/NCCOS/CSCOR is soliciting proposals for projects of 2 to 5 years in duration for the development of new ecological forecasting capabilities and the transition of existing ecological forecasts to operational status. These ecological forecasts are to support critical management decisions for the management of the Nation's Great Lake, estuarine, coastal and ocean ecosystems. The need for multidisciplinary coastal ecosystem studies to improve our understanding of the physical, biological, and chemical processes in these complex systems has only grown in recent years as management of coastal regions moves toward greater consideration of ecosystem principles, including connections with terrestrial and atmospheric systems. CSCOR and COP have been committed to producing data and information products such as technical reports, peer-reviewed publications, databases, and numerical and conceptual models so that they will be accessible to users of this information. However, the delivery of comprehensive information products and technologies to the appropriate management community for application to specific coastal management issues remains a challenge; the EcoFore program, in part, is meant to address this challenge.

Funding Availability: Award amounts will be determined by the proposals and available funds, typically not to exceed $500,000 per project per year with project durations from 2-5 years. It is anticipated that 3 to 6 total projects will be funded. Support in out years after FY 2006 is contingent upon the availability of funds. Applicants are hereby given notice that funds have not yet been appropriated for this program.

Statutory Authority: 16 U.S.C. 1456c.

Catalog of Federal Domestic Assistance: 11.478 Center for Sponsored Coastal Ocean Research, Coastal Ocean Program (CSCOR/COP).

Application Deadline: The deadline for receipt of proposals at the CSCOR office is 3 p.m., eastern time on October 25, 2005.

Address for Submitting Proposals: Applications submitted in response to this announcement are strongly encouraged to be submitted through the Grants.gov Web site. Electronic Access to the full funding announcement for this program is available via the Grants.gov Web site: http://www.grants.gov. The announcement will also be available at the NOAA Web site http://www.ofa.noaa.gov/%7Egrants/funding.shtml or by contacting the program official identified below. If Internet access is unavailable, paper applications (a signed original and two copies) should be submitted to the Center for Sponsored Coastal Ocean Research, Coastal Ocean Program (CSCOR/COP), National Oceanic and Atmospheric Administration, (NOAA), 1305 East West Highway, Room 8243, SSMC Building 4, Silver Spring, MD 20910.

Information Contacts: For overall information regarding Technical Information, Elizabeth Turner, 603-862-4680, E-mail: elizabeth.turner@noaa.gov. Business Management Information, Laurie Golden, NCCOS/CSCOR/COP Grants Administrator, 301-713-3338/ext 151, Internet: Laurie.Golden@noaa.gov.

Eligibility: Eligible applicants are institutions of higher education, other non-profits, State, local, Indian tribal governments, and Federal agencies that possess the statutory authority to receive financial assistance.

NCCOS/CSCOR will not fund any Federal FTE salaries, but will fund travel, equipment, supplies, and contractual personnel costs associated with the proposed work. Furthermore, no expenses of any kind will be provided for NOS researchers.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

6. NOAA Coral Reef Conservation Grant Program—International Coral Reef Conservation

Summary Description: This Program solicits proposals under four funding categories: (1) Promote watershed management in the wider Caribbean, Brazil, and Bermuda; (2) regional enhancement of marine protected area management effectiveness; (3) encourage the development of national systems of marine protected areas in the wider Caribbean, Bermuda, Brazil, and Southeast Asia; and (4) promote regional socio-economic training and monitoring in coral reef management in the wider Caribbean, Brazil, Bermuda, East Africa, South Pacific, and Southeast Asia. Each funding category has specific applicant and project eligibility criteria.

This program is part of the NOAA Coral Reef Conservation Grant Program under the Coral Reef Conservation Act of 2000 which provides matching grants of financial assistance for coral reef conservation projects. NOS will accept pre-applications for peer review. Selected applicants may be asked to revise award objectives, work plans or budgets prior to submittal of a final application, including required Federal financial assistance forms, to NOS.

Funding Availability: Approximately $400,000 may be available in FY 2006 to support awards under this program. Each eligible applicant can apply for the following maximum amounts: Watershed Management $40,000; Management Effectiveness: Regional Capacity Building Projects $80,000; Marine Protected Area National Systems: $50,000; Socio-economic Monitoring Regional Projects $35,000. The amount of funding awarded to each applicant will be subject to the eligibility and evaluation requirements described in this announcement. Funding will be subject to the availability of Federal appropriations.

Statutory Authority: 16 U.S.C. 6403.

Catalog of Federal Domestic Assistance Number: 11.463—Habitat Conservation.

Pre-Application/Final Application Deadlines: Pre-applications are due to NOAA by 11:59 p.m. eastern time on November 15, 2005. Final applications by invitation only are due to NOAA by 11:59 p.m. eastern time on March 3, 2006.

Address for Submitting Applications: Address for submitting pre-applications: David Kennedy, NOAA Coral Reef Conservation Program, Office of Response and Restoration, NOAA National Ocean Service, N/ORR, Room 10102, 1305 East West Highway, Silver Spring, MD 20910 or coral.grants@noaa.gov. Submissions by e-mail are preferred.

Address for submitting final applications: http://www.grants.gov, the Federal grants portal. If Internet access is unavailable, hard copies can be submitted David Kennedy, NOAA Coral Reef Conservation Program, Office of Response and Restoration, N/ORR, Room 10102, NOAA National Ocean Service, 1305 East West Highway, Silver Spring, MD 20910. Applicants are required to include one original and two copies of the signed, hard/paper of the Federal financial assistance forms for each final application package that is not submitted through http://www.grants.gov.

Information Contact: Arthur Paterson, 1315 East-West Highway, 5th Floor, N/IP, Room 5627, Silver Spring, MD 20910. Phone: 301-713-3078, extension 217; e-mail: arthur.e.paterson@noaa.gov.

Eligibility: Eligible applicants include all international, governmental (except U.S. Federal agencies), and non-governmental organizations. For specific country eligibility per category, please refer to individual category descriptions in Section V of the full Federal Funding Opportunity. The proposed work must be conducted at a non-U.S. site. Eligible countries are defined as follows: The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Program's 19 Pacific island countries and territories, including the Federated States of Micronesia, Republic of Palau, and the Republic of the Marshall Islands, but excluding U.S. territories and four developed country members. Southeast Asia Region includes Brunei, Cambodia, Indonesia, Laos, Malaysia, Philippines, Singapore, Thailand, and Vietnam. East Africa includes Comoros, France (La Reunion), Kenya, Madagascar, Mauritius, Mozambique, Seychelles, Somalia, the United Republic of Tanzania and South Africa.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

7. FY 2006 Bay Watershed Education & Training (B-WET) Program, Hawai'i

Summary Description: The B-WET grant program is a competitively based program that supports existing environmental education programs, fosters the growth of new programs, and encourages the development of partnerships among environmental education programs throughout Hawai'i. Funded projects provide “meaningful” outdoor experiences for students and professional development opportunities for teachers in the area of environmental education.

Funding Availability: This solicitation announces that approximately $1,000,000 may be available in Fiscal Year 2006 in award amounts to be determined by the proposals and available funds. It is anticipated that approximately 15-20 grants will be awarded with these funds. Proposals may request a duration of up to 3 years. However, funds will be made available for only a 12-month award period and any continuation of the award period will depend on submission of a successful proposal subject to technical and panel reviews, adequate progress on previous award(s), and available funding to continue the award. The Pacific Services Center may continue funding existing grants that were funded in the previous application process. Grants will be awarded to continue these projects under this announcement pending successful review of new application packages, and adequate progress reports and/or site visits.

Statutory Authority: 33 U.S.C. 883d, 15 U.S.C. 1540.

Catalog of Federal Domestic Assistance: 11.473, Coastal Services Center.

Application Deadline: Proposals must be received by 5 p.m. Pacific daylight savings time on October 14, 2005.

Address for Submitting Proposals: Applicants are strongly encouraged to apply through http://www.Grants.gov. If an applicant cannot submit a proposal through http://www.Grants.gov, then the application must be submitted in hard copy to the NOAA Pacific Services Center, 737 Bishop Street, Suite 2250, Honolulu, Hawai'i 96813. Facsimile transmissions and electronic mail submission of proposals will not be accepted.

Information Contact: Divina Corpuz, phone 808-522-7481, fax (808) 532-3224, electronic mail at Divina.Corpuz@noaa.gov.

Eligibility: Eligible applicants for both areas of interest (“Meaningful Outdoor Experiences” and Professional Development in the Area of Environmental Education for Teachers) are K-through-12 public and independent schools and school systems, institutions of higher education, commercial and nonprofit organizations, state or local government agencies, and Indian tribal governments. Applicants that are not eligible are individuals and Federal agencies.

Cost Sharing Requirements: No cost sharing is required under this program, however, the Pacific Services Center strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

8. Bay Watershed Education & Training (B-WET) Program, Monterey Bay Watershed

Summary Description: The B-WET grant program is a competitively based program that supports existing environmental education programs, fosters the growth of new programs, and encourages the development of partnerships among environmental education programs throughout the Monterey Bay watershed. Funded projects provide Meaningful outdoor experiences for students and professional development opportunities for teachers in the area of environmental education.

Funding Availability: This solicitation announces that approximately $475,000 may be available in FY 2006 in award amounts to be determined by the proposals and available funds. It is anticipated that approximately 15 grants will be awarded with these funds. About $250,000 will be for proposals that provide opportunities for students to participate in a Meaningful Outdoor Experience. About $225,000 will be for proposals that provide opportunities for Professional Development in the area of Environmental Education for Teachers. Proposals may request a duration of up to 3 years. However, funds will be made available for only a 12-month award period and any continuation of the award period will depend on submission of a successful proposal subject to technical and panel reviews, adequate progress on previous award(s), and available funding to continue the award. The National Marine Sanctuary Program may continue funding existing grants that were funded in the previous application process. New grants will be awarded to continue these projects under this announcement pending successful review of a new application package, and adequate progress reports and/or site visits.

Statutory Authority: 16 U.S.C. 1440, 15 U.S.C. 1540.

Catalog of Federal Domestic Assistance: 11.429, Marine Sanctuary Program.

Application Deadline: Proposals must be received by 5 p.m. Pacific time on October 15, 2005. Proposals will not be accepted before August 15, 2005. Any proposals received before this date will be returned to the applicant.

Address for Submitting Proposals: Seaberry Nachbar, Monterey Bay National Marine Sanctuary Office; 299 Foam Street, Monterey, CA 93940. Facsimile transmissions and electronic mail submission of proposals will not be accepted.

Information Contact: Seaberry Nachbar, phone 831-647-4204, fax 831-647-4250, Internet at seaberry.nachbar@noaa.gov.

Eligibility: Eligible applicants for both areas of interest (Meaningful Outdoor Experiences and Professional Development in the Area of Environmental Education for Teachers) are K-through-12 public and independent schools and school systems, institutions of higher education, commercial and nonprofit organizations, state or local government agencies, and Indian tribal governments. Applicants that are not eligible are individuals and Federal agencies.

Cost Sharing Requirements: No cost sharing is required under this program however, the National Marine Sanctuary Program strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

9. National Estuarine Research Reserves System FY2006 Land Acquisition and Construction Competitive Program

Summary Description: The Estuarine Reserves Division (ERD) of NOAA is soliciting proposals from the National Estuarine Research Reserve System (NERRS) for land acquisition and construction funding. The National Estuarine Research Reserve system consists of estuarine areas of the United States and its territories which are designated and managed for research and educational purposes. Each reserve within the system is chosen to represent different biogeographic regions and to include a variety of ecosystem types. Through the funding of designated reserve agencies and universities to undertake land acquisition and construction projects that support the NERRS purpose, NOAA will strengthen protection of key land and water areas; enhance long-term protection of the area for research and education, and provide for facility and exhibit construction.

Funding Availability: The ERD anticipates that approximately $7.25 million, pending availability of funds, will be competitively awarded to qualified National Estuarine Research Reserves that meet the funding priorities and selection criteria. Approximately 5-15 awards will be made.

Statutory Authority: 16 U.S.C. 1461 (e)(1)(A)(i),(ii), and (iii)

Catalog of Federal Domestic Assistance: 11.420, Coastal Zone Management Estuarine Research Reserves

Application Deadline: Proposals must be received no later than 11 p.m. eastern standard time on February 1, 2006.

Address for Submitting Proposals: Applicants are strongly encouraged to submit proposals electronically through Grants.gov. Paper applications should be submitted to NOAA/NOS; 1305 East West Highway, Room 10509; Silver Spring, Maryland 20910.

Information Contact(s): Doris Grimm, NOAA/NOS; 1305 East-West Highway, Room 10509; Silver Spring, Maryland 20910, or by phone at 301-713-3155 ext. 107, or fax to 301-713-4012, Internet at doris.grimm@noaa.gov.

Eligibility: Eligible applicants are coastal states in which the NERRs are located and are directed to the Reserves' lead state agencies or universities.

Cost Sharing Requirements: Matching requirements include 50 percent match of the total grant project for land acquisition and 30 percent match of the total grant project for construction.

Intergovernmental Review: Applications under this program are subject to Executive Order 12372, “Intergovernmental Review of Federal Programs.”

10. FY 2006 Coastal Services Center Environmental Characterization of a U.S. Coastal Region.

Summary Description: NOS is soliciting projects for the Coastal Services Center (CSC) Landscape Characterization and Restoration (LCR) and Outreach Programs, with an anticipated start date of March 1, 2006. The Center's LCR and Outreach programs seek proposals for a two-year cooperative agreement under which a cooperator and the Center will jointly develop an environmental characterization of a coastal region designed for use by coastal resource managers within multiple jurisdictions to address a single management issue related to coastal development, this issue to be selected by the cooperator.

Funding Availability: Total anticipated funding for a two year project is between $250,000 and $350,000 and no more than one award is expected.

Statutory Authority: 16 U.S.C. 1456c and 33 U.S.C. 1442.

Catalog of Federal Domestic Assistance: 11.473, Coastal Services Center.

Application Deadline: Proposals are due by 5 p.m. EDT, October 3, 2005.

Address for Submitting Proposals: Applications should be submitted through Grants.gov. For applicants without Internet access, send applications to 2234 South Hobson Avenue, Charleston, South Carolina 29405-2413.

Information Contact(s): For administrative issues, contact Violet Legette at 843-740-1222 (phone) or 843-740-1232 (fax) or e-mail her at Violet.Legette@noaa.gov. For technical questions, either contact Jeffery Adkins by telephone at 843-740-1244 or by e-mail at Jeffery.Adkins@noaa.gov or Ginger Hinchcliff by telephone at 843-740-1184 or by e-mail at Ginger.Hinchcliff@noaa.gov.

Eligibility: Eligible applicants are institutions of higher education, hospitals, other non-profits, commercial organizations, foreign governments, organizations under the jurisdiction of foreign governments, international organizations, and state, local and Indian tribal governments. Federal agencies or institutions are not eligible to receive Federal assistance under this announcement, but may be project partners.

Cost Sharing Requirements: None.

Intergovernmental Review: Applications under this program is subject to Executive Order 12372, “Intergovernmental Review of Federal Programs.”

11. FY2006 Coastal Services Center Leadership Training for Coastal Managers and Scientists

Summary Description: NOS is soliciting projects for the Coastal Services Center (CSC) Coastal Learning Services (CLS) program with an anticipated start date of March 1, 2006. The CLS program seeks proposals for a two-year cooperative agreement on developing and implementing a leadership training program for coastal managers and scientists. The Center's goal is to aid coastal resource managers and scientists in developing their leadership skills and capabilities. Under the cooperative agreement, the Center will work in coordination with the cooperator to integrate the results of a leadership needs assessment that was recently conducted for the Center and develop a training program that addresses the needs and concerns of the coastal community. The leadership training should be targeted to mid-level managers that will soon be stepping into leadership roles within their agency or organization. The training should be clear in the distinction between management and leadership by emphasizing the following leadership principles; building trust, articulating a vision, developing public relations skills, and collaborating to build effective communities. The training should focus on skill building using interactive, multi-media and other communication processes. All methods must be grounded in credible leadership theories.

Funding Availability: Total anticipated funding for cooperative agreements is up to $150,000 and is subject to the availability of FY 2006 appropriations. One award is anticipated from this announcement. The nature of the cooperative agreement is such that the Center will provide substantial involvement in the project. General areas of responsibilities that the Center has had in past projects include: meeting planning and facilitation, instructional design, familiarity of coastal issues and access to potential customers of the training.

Statutory Authority: 16 U.S.C. 1456c.

Catalog of Federal Domestic Assistance: 11.473, Coastal Services Center.

Application Deadline: Proposals are due by 5 p.m. EDT, October 3, 2005.

Address for Submitting Proposals: Applicants are strongly encouraged to submit applications through http://www.Grants.gov. Applications sent via U.S. Postal Service, express delivery, or hand-delivered may be sent to Coastal Services Center, 2234 South Hobson Avenue, Charleston, South Carolina 29405-2413 to the attention of Lisa Holmes, room 119.

Information Contact(s): For administrative questions, contact Violet Legette, NOAA CSC; 2234 South Hobson Avenue, Room 218; Charleston, South Carolina 29405-2413, or by phone at 843-740-1222, or by fax 843-740-1232, or via Internet at Violet.Legette@noaa.gov. For technical questions, contact Ginger Hinchcliff, NOAA CSC; 2234 South Hobson Avenue, Room 135; Charleston, South Carolina 29405-2413, or by phone at 843-740-1184, or by fax 843-740-1313, or via Internet at Ginger.Hinchcliff@noaa.gov.

Eligibility: Eligible applicants are state, local, Indian tribal governments, private or nonprofit organizations, and institutions of higher education. Applicants must be familiar with the coastal community and the issues faced by coastal managers and scientists. Federal agencies or institutions are not eligible to receive Federal assistance under this announcement, but may also be project partners. Note: Federal agencies or institutions who are project partners must demonstrate that they have legal authority to receive funds in excess of their appropriation.

Cost Sharing Requirements: None.

Intergovernmental Review: Applications under this program is subject to Executive Order 12372, “Intergovernmental Review of Federal Programs.”

12. FY2006 Coastal Services Center Application of Spatial Technology for Coastal Management

Summary Description: NOS is soliciting projects for the Coastal Services Center (CSC) Geographic Information Systems (GIS) Integration and Development (I&D) program, with an anticipated start date of April 1, 2006. The GIS I&D program seeks proposals for one to two-year cooperative agreements under which cooperators and the Center will jointly develop technical projects related to the goal of the GIS I&D program, which is to provide relevant, easily accessible spatial data, tools, and support services to the coastal resource management community. The GIS I&D program is especially interested in nationally networked organizations proposing geospatial solutions to issues related to coastal hazards.

Funding Availability: Total anticipated funding is estimated to be $250,000, subject to appropriation. The GIS I&D program intends to fund one to two projects with awards ranging from about $100,000 to $125,000 each.

Statutory Authority: 33 U.S.C. 883a; 33 U.S.C. 883c; and 16 U.S.C. 1456c.

Catalog of Federal Domestic Assistance: 11.473, Coastal Services Center.

Application Deadline: Proposals are due by 5 p.m. EDT, October 3, 2005.

Address for Submitting Proposals: Applications should be submitted through http://www.grants.gov unless an applicant does not have Internet access. In that case, hard copy applications can be sent to Coastal Services Center, 2234 South Hobson Avenue, Charleston, South Carolina 29405-2413 to the attention of Hamilton Smillie, room 237C.

Information Contact(s): For administrative questions, contact Violet Legette, NOAA CSC; 2234 South Hobson Avenue, Room 218; Charleston, South Carolina 29405-2413, or by phone at 843-740-1222, or by fax 843-740-1232, or via Internet at Violet.Legette@noaa.gov. For technical questions, contact Hamilton Smillie, NOAA CSC; 2234 South Hobson Avenue, Room 237C; Charleston, South Carolina 29405-2413, or by phone at 843-740-1192, or via Internet at Hamilton.Smillie@noaa.gov.

Eligibility: Eligible applicants are institutions of higher education, hospitals, other non-profits, commercial organizations, foreign government, organizations under the jurisdiction of foreign governments, international organizations, and state, local and Indian tribal governments. Federal agencies or institutions are not eligible to receive Federal assistance under this announcement, but may be project partners.

Cost Sharing Requiremtnts: None.

Intergovernmental Review: Applications under this program is subject to Executive Order 12372, “Intergovernmental Review of Federal Programs.”

13. Coral Reef Ecosystem Studies (CRES) 2006

Summary Description: CSCOR solicits proposals that address causes of regional declines in coral abundance and degradation of coral ecosystems. CSCOR's interest is to provide timely and high-quality scientific results that can be used to develop alternative management strategies to restore and protect coral reef ecosystems. CSCOR solicits proposals that seek a better understanding of the underlying processes that regulate coral reefs and associated ecosystems. Findings from this research will be used to directly support resource management decisions to protect healthy coral reef ecosystems and to reverse decline in degraded ones. This solicitation will focus on several geographic regions and two depth ranges: (1) typical, shallow water (0-50m) coral reef ecosystems in the locations prioritized below, and (2) deep water (50-100m) hermatypic, light-dependent coral reef ecosystems. CSCOR's interest is to provide timely and high-quality scientific results that can be used to develop alternative management strategies to restore and protect coral reef ecosystems.

Funding Availability: CSCOR anticipates selection of one proposal not to exceed $1,000,000 per year with project duration from 3-5 years for the West Florida Shelf; one comprehensive project not to exceed $1,000,000 per year with project duration from 3-5 years for the Pacific islands; and up to three separate projects not to exceed $500,000 per project per year with project durations of 1-3 years for the deep hermatypic coral reef studies. It is anticipated that 3-5 total projects will be funded. Support in out years after FY 2006 is contingent upon the availability of funds.

Applicants are hereby given notice that funds have not yet been appropriated for this program.

Statutory Authority: 16 U.S.C. 6403.

Catalog of Federal Domestic Assistance: 11.478 Center for Sponsored Coastal Ocean Research, Coastal Ocean Program CSCOR/COP.

Application Deadline: Proposals must be received by CSCOR/COP no later than 3 p.m., eastern time, September 1, 2005.

Address for Submitting Proposals: Applications submitted in response to this announcement are strongly encouraged to be submitted through Grants.gov. Electronic Access to the full funding announcement for this program is available via the Grants.gov Web site: http://www.grants.gov. The announcement will also be available at the NOAA Web site http://www.ofa.noaa.gov/%7Egrants/funding.shtml or by contacting the program official identified below. If Internet access is unavailable, paper applications (a signed original and two copies) should be submitted to the Center for Sponsored Coastal Ocean Research, Coastal Ocean Program (CSCOR/COP), National Oceanic and Atmospheric Administration, (NOAA), 1305 East West Highway, Room 8243, SSMC Building 4, Silver Spring, MD 20910.

Information Contacts: For overall information regarding the Deep-CRES program contact: Michael Dowgiallo, CSCOR, 301-703-3338, extension 161 or e-mail at Michael.Dowgiallo@noaa.gov. Business Management Information, Laurie Golden, CSCOR Grants Administrator, 301 713 3338/ext 155, Internet: Laurie.Golden@noaa.gov.

Eligibility: Eligible applicants are institutions of higher education, other non-profits, state, local, Indian tribal governments, and Federal agencies that possess the statutory authority to receive financial assistance. Minority Serving Institutions are encouraged to apply.

NCCOS/CSCOR will not fund any Federal FTE salaries, but will fund travel, equipment, supplies, and contractual personnel costs associated with the proposed work. Furthermore, no expenses of any kind will be provided for NOS researchers.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR will accept proposals that include foreign researchers as collaborators with a researcher, who has met the above stated eligibility requirements; and who also is an employee of an eligible institution listed above.

(4) Non-Federal researchers affiliated with NOAA University Joint Institutes should comply with joint institutional requirements; they will be funded through grants either to their institutions or to joint institutes.

Cost Sharing Requirements: None.

Intergovernmental Review: Applications under this program are not subject to Executive Order 12372, “Intergovernmental Review of Federal Programs.”

14. FY2006 Coastal Services Center Performance Measurement Technical Assistance

Summary Description: NOS is soliciting projects for the Coastal Services Center (CSC) Coastal Learning Services (CLS) program with an anticipated start date of March 1, 2006. The Center's CLS program seeks proposals for a two-year cooperative agreement under which the cooperator will collect and analyze physical, social, and environmental indicator data and the Center will provide technical assistance and training on performance measures. A number of institutions and agencies at local, state and regional levels are monitoring their progress in achieving programmatic goals using performance measures. For example, to fulfill the requirements under the National Coastal Management Performance Measurement System, National Coastal Management Programs and National Estuarine Research Reserves are collecting indicator data to measure effectiveness in achieving Coastal Zone Management Act goals at the national level. The performance measurement system will identify and assess the act's national impact through various indicator categories. All proposals under this announcement must show relevance to state or local coastal resource management efforts.

Funding Availability: Total anticipated funding for these cooperative agreements is up to $300,000 and is subject to the availability of FY 2006 appropriations. Two to four awards are anticipated from this announcement. The nature of the cooperative agreement is such that the Center will provide substantial involvement in the project. General areas of responsibilities that the Center has had in past projects include training and one-to-one technical assistance to cooperator and their partners on project design and evaluation, logic model development, and performance metrics.

Statutory Authority: 16 U.S.C. 1456c.

CFDA: 11.473, Coastal Services Center.

Application Deadline: Proposals are due by 5 p.m. EDT, October 3, 2005.

Address for Submitting Proposals: Proposals should be submitted through http://www.Grants.gov. For applicants without Internet access, hard copies can be mailed to Coastal Services Center, 2234 South Hobson Avenue, Charleston, South Carolina 29405-2413 to the attention of Lisa Holmes, room 119.

Information Contact(s): For administrative questions, contact Violet Legette, NOAA CSC; 2234 South Hobson Avenue, Room 218; Charleston, South Carolina 29405-2413, or by phone at 843-740-1222, or by fax 843-740-1232, or via Internet at Violet.Legette@noaa.gov. For technical questions, contact Jan Kucklick, NOAA CSC; 2234 South Hobson Avenue, Room 142; Charleston, South Carolina 29405-2413, or by phone at 843-740-1279, or by fax 843-740-1313, or via Internet at Jan.Kucklick@noaa.gov.

Eligibility: Eligible applicants are state, local, Indian tribal governments, private or nonprofit organizations, and institutions of higher education. Federal agencies or institutions are not eligible to receive Federal assistance under this announcement, but may be project partners. Note: Federal agencies or institutions who are project partners must demonstrate that they have legal authority to receive funds in excess of their appropriation.

Cost Sharing Requirements: None.

Intergovernmental Review: Applications under this program is subject to Executive Order 12372, “Intergovernmental Review of Federal Programs.”

National Weather Service

1. AFWS—Automated Flood Warning Systems (AFWS) Program

Summary Description: The National Weather Service (NWS) is soliciting applications provide capital funds for the creation, renovation, or enhancement of rain and stream gage networks that are locally operated and maintained with non-NOAA resources. The expected period of performance is for one year with an anticipated start date of April 1, 2006. The NWS seeks to form a partnership with entities that can demonstrate a long-term ability to operate and maintain an AFWS and provide the data to the NWS.

Funding Availability: Approximately $500,000 will be available through this announcement for fiscal year 2006. Proposals should be prepared assuming an annual budget of no more than $100,000.

Statutory Authority: 15 U.S.C. 313 and 33 U.S.C. 883d.

Catalog of Federal Domestic Assistance: 11.450, Automated Flood Warning System.

Application Deadline: Proposals must be received by the NWS no later than 5 p.m., EDT, October 27, 2005.

Address for Submitting Proposals: Applications should be submitted through http://www.grants.gov. For applicants without Internet access, they should be sent to John Bradley, NOAA/NWS; 1325 East-West Highway, Room 13396; Silver Spring, Maryland 20910-3283.

Information Contact(s): John Bradley, NOAA/NWS; 1325 East-West Highway, Room 13396; Silver Spring, Maryland 20910-3283, or by phone at 301-713-0624 ext. 154, or fax to 301-713-1520, or via Internet at john.bradley@noaa.gov.

Eligibility: Eligible applicants are non-profit organizations, state, local and Indian tribal governments.

Cost Sharing Requirements: None. However, applicant resource commitment will be considered in the competitive selection process.

Intergovernmental Review: Applications under this program are not subject to Executive Order 12372, “An Intergovernmental Review of Federal Programs.”

2. Hydrologic Research

Summary Description: This program represents an NOAA/NWS effort to create a cost-effective continuum of basic and applied research through collaborative research between the Hydrology Laboratory of the NWS Office of Hydrologic Development and academic communities or other private or public agencies which have expertise in the hydrometerologic, hydrologic, and hydraulic routing sciences. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort. This program announcement is for projects to be conducted by research investigators for a 1-year, 2-year, or 3-year period. June 1, 2006, should be used as the proposed start date on proposals.

Funding Availability: Because of funding uncertainty, the Office of Hydrologic Development requests that interested organizations prepare a two-page pre-proposal. Once funding availability is confirmed, the Office of Hydrologic Development will invite the authors of the best pre-proposals to submit full proposals. Proposals should be prepared assuming an annual budget of no more than $125,000. It is expected that approximately four awards will be made, depending on availability of funds.

Statutory Authority: 15 U.S.C. 313.

Catalog of Federal Domestic Assistance: 11.462, Hydrologic Research.

Application Deadline: Pre-proposals are due no later 3 p.m. eastern standard time on November 18, 2005. Invitations for full-proposal submittal will be sent on December 30th, 2005. Full-proposals are due no later than 3 p.m. eastern standard time on January 31st, 2006.

Addresses for Submitting Pre-Proposals and Full Proposals:Pre-proposals should be submitted by e-mail to Pedro.Restrepo@noaa.gov. For applicants without Internet access, they should be sent to NOAA/NWS; 1325 East-West Highway, Room 8346; Silver Spring, Maryland 20910-3283. Full proposals should be submitted through http://www.grants.gov. For applicants without Internet access, they may be sent to NOAA/NWS; 1325 East-West Highway, Room 8346; Silver Spring, Maryland 20910-3283.

Information Contact(s): Dr. Pedro Restrepo by phone at 301-713-0640 ext. 210, or fax to 301-713-0963, or via Internet at Pedro.Restrepo@noaa.gov.

Eligibility: Eligible applicants are Federal agencies, institutions of higher education, other nonprofits, commercial organizations, foreign governments, organizations under the jurisdiction of foreign governments, and international organizations, state, local and Indian tribal governments.

Cost Sharing Requirements: None.

Intergovernmental Review: Applications under this program are not subject to Executive Order 12372, “Intergovernmental Review of Federal Programs.”

Oceans and Atmospheric Research

1. Ballast Water Technology Demonstration Program Competitive Funding Announcement (Research, Development, Testing and Evaluation Facility)

Summary Description: NOAA and the U.S. Fish and Wildlife Service (FWS) solicit proposals to develop a Cooperative Agreement to establish a Research, Development, Testing and Evaluation (RDTE) facility in the Great Lakes that will support progress in the development of commercially viable ballast water treatment technologies. NOAA and FWS also solicit proposals to support planning activities which could lead to additional ballast water RDTE facilities in the future.

Funding Availability: Depending on FY 2006 appropriations, NOAA expects to make available up to $950,000 in funds for one proposal that produces a multi-year cooperative agreement between Federal, State and private entities to create and operate a ballast water RDTE facility in the Great Lakes.

Depending on availability of funds and the number and quality of applications received, additional startup grants of up to $50,000 each may be awarded to foster the future development of additional ballast water RDTE facilities. It is anticipated that eight or fewer startup grants may be awarded.

Statutory Authority: Statutory authority for this program is provided under 16 U.S.C. 4701 et seq.; 33 U.S.C. 1121-1131; 46 U.S.C. App 1211 (2000); 50 U.S.C. App 1744 (2000).

Catalog of Federal Domestic Assistance: 11.417, Sea Grant Support.

Application Deadline: Preliminary proposals must be received by the National Sea Grant Office by 4 p.m. EDT on Friday, September 23, 2005. Full proposals must be received by 4 p.m. EST on Friday, January 6, 2005.

Address for Submitting Proposals: Preliminary proposals must be submitted to the National Sea Grant Office, Attn: Mrs. Geraldine Taylor, SG-Ballast Water, 1315 East-West Highway, R/SG, Rm. 11732, Silver Spring, MD 20910. Telephone number for express mail applications is 301-713-2445. Full proposals should be submitted through Grants.gov. For those applicants without Internet access, hard copy proposals may be sent to the above address.

Information Contact(s): For information on the competitive funding announcement, contact Dorn Carlson, NOAA National Sea Grant Office, 301-713-2435; via Internet at Dorn.Carlson@noaa.gov; or Pamela Thibodeaux, U.S. Fish and Wildlife Service, 703-358-2493; via Internet at Pamela_Thibodeaux@fws.gov. Further background information can be obtained from the above information contacts, or on the Ballast Water Program Web site, http://www.nsgo.seagrant.org/research/nonindigenous/ballast.

Eligibility: Individuals, institutions of higher education, nonprofit organizations, commercial organizations, Federal, State, local and Indian tribal governments, foreign governments, organizations under the jurisdiction of foreign governments, and international organizations are eligible. Only those who submit preliminary proposals by the deadline are eligible to submit full proposals.

Cost Sharing Requirements: Applications for RDTE facility cooperative agreements must include additional matching funds equal to at least 20% of the NOAA funds requested. Other federal funds and in-kind services are eligible to satisfy the match requirement. Applications for startup grants have no cost sharing requirement.

Intergovernmental Review: Applications under this program are not subject to Executive Order 12372, “Intergovernmental Review of Federal Programs.”

2. NOAA Office of Ocean Exploration Announcement of Opportunity, FY 2006

Summary Description: The NOAA Office of Ocean Exploration (OE) is seeking pre-proposals and full proposals to support its mission to search, investigate, and document unknown and poorly known areas of the ocean and Great Lakes through interdisciplinary exploration, and to advance and disseminate knowledge of the ocean environment and its physical, chemical, biological, and historical resources. Successful OE proposals will be relatively high-risk, innovative and broad-based in terms of their approach and objectives. OE is soliciting proposals whose objectives fall within one of the following categories: General Exploration, Marine Archaeology, and Education.

Funding Availability: NOAA OE anticipates that approximately $14,000,000, including ship and submersible costs, will be available through this announcement. Submissions focusing solely on technology development will not be accepted. Total funding estimates are: General Exploration $13,000,000; Archaeology $600,000; and Education $400,000. Subsequent to this announcement, OE plans to publish another Announcement of Opportunity for a reduced amount of FY06 funds to enable the office to timely and effectively respond to unforeseen opportunities or events occurring after the submission deadline below.

Statutory Authority: 33 U.S.C. 883d.

Catalog of Federal Domestic Assistance: 11.460, Special Oceanic and Atmospheric Projects.

Application Deadline: Pre-proposals are required for all categories and must be received by August 5, 2005. Full proposals are also required for all categories and must be received by October 3, 2005. No e-mail or facsimile pre-proposal or proposal submissions will be accepted.

Address for Submitting Proposals: Pre-proposals are required for all categories and must be submitted as a paper application to: ATTN: Proposal Manager, NOAA Office of Ocean Exploration, 1315 East-West Highway, SSMC3, 10th Floor, Silver Spring, MD 20910, 301-713-9444. For full proposals, applicants should apply online (http://www.grants.gov/) but paper submissions to the address above are acceptable if there is no Internet access available. No e-mail or facsimile pre-proposals will be accepted.

Information Contact(s): For further information contact the NOAA Office of Ocean Exploration at 301-713-9444 or submit inquiries via e-mail to the Frequently Asked Questions address: oar.oe.FAQ@noaa.gov. E-mail inquiries should include the Principal Investigator's name in the subject heading.

Eligibility: Eligible applicants are institutions of higher education, other nonprofits, commercial organizations, organizations under the jurisdiction of foreign governments, international organizations, state, local and Indian tribal governments. Applications from Federal agencies will be considered. Please Note: Before non-NOAA federal applicants may be funded, they must demonstrate that they have legal authority to receive funds from another federal agency in excess of their appropriation. Because this announcement is not proposing to procure goods or services from applicants, the Economy Act (31 U.S.C. 1535) is not an appropriate legal basis.

Cost Sharing Requirements: Though cost-sharing is not required, it is encouraged.

Intergovernmental Review: Applications under this program are subject to Executive Order 12372, “Intergovernmental Review of Federal Programs.” Applicants must contact their State's Single Point of Contact (SPOC) to find out about and comply with the State's process under EO 12372. The names and addresses of the SPOCs are listed in the Office of Management and Budget's Web site: http://www/whitehouse.gov/omb/grants/spoc.html.

3. Ballast Water Technology Demonstration Program Competitive Funding Announcement (Treatment Technology Demonstration Projects)

Summary Description: NOAA, the U.S. Fish and Wildlife Service, and the U.S. Maritime Administration expect to entertain proposals to conduct ballast water treatment technology testing and demonstration projects. The Ballast Water Technology Demonstration Program supports projects to develop, test, and demonstrate technologies that treat ships' ballast water in order to reduce the threat of introduction of aquatic invasive species to U.S. waters through the discharge of ballast water.

Funding Availability: Depending on FY 2006 appropriations, NOAA and the U.S. Fish and Wildlife Service (FWS) expect to make available up to about $2 million, and the U.S. Maritime Administration (MARAD) expects to make available several vessels for use as test platforms, to support ballast water treatment technology demonstration projects. The maximum amount of award will vary with the scale of the proposed project. Depending on the funding available and the number and quality of proposals received, approximately 8 grants with a median value of about $200,000 are anticipated to be awarded.

Statutory Authority: Statutory Authority for this program is provided under 16 U.S.C. 4701 et seq.; 33 U.S.C. 1121-1131; 46 U.S.C. App 1211 (2000); 50 U.S.C. App 1744 (2000).

Catalog of Federal Domestic Assistance Number: 11.417, Sea Grant Support; 15.FFA Fish and Wildlife Management Assistance.

Application Deadline: Pre-proposals must be received by the National Sea Grant Office by 4 p.m. EDT on Friday, August 26, 2005. Full proposals must be received 4 p.m. EST on Friday, December 2, 2005.

Address for Submitting Proposals: Pre-proposals must be submitted to the National Sea Grant Office, Attn: Mrs. Geraldine Taylor, SG-Ballast Water, 1315 East-West Highway, R/SG, Rm 11732, Silver Spring, MD 20910. Telephone number for express mail applications is 301-713-2445. Full proposals should be submitted through Grants.gov. For those applicants without Internet access, hard copy proposals may be sent to the above address.

Information Contact(s): Dorn Carlson, NOAA National Sea Grant Office, 301-713-2435; via Internet at Dorn.Carlson@noaa.gov; or Pamela Thibodeaux, U.S. Fish and Wildlife Service, 703-358-2493; via Internet at Pamela_Thibodeaux@fws.gov; or Carolyn Junemann, U.S. Maritime Administration, 202-366-1920; via Internet at Carolyn.Junemann@marad.dot.gov. Further background information can be obtained from the above information contacts, or on the Ballast Water Program Web site, http://www.nsgo.seagrant.org/research/nonindigenous/ballast.

Eligibility: Individuals, institutions of higher education, nonprofit organizations, commercial organizations, Federal, State, local and Indian tribal governments, foreign governments, organizations under the jurisdiction of foreign governments, and international organizations are eligible. Only those who submit pre-proposals by the deadline are eligible to submit full proposals.

Cost Sharing Requirements: None.

Intergovernmental Review: Applications under this program are not subject to Executive Order 12372, “Intergovernmental Review of Federal Programs.” NOAA Fellowship, Scholarship and Internship Programs.

National Ocean Service

1. Dr. Nancy Foster Scholarship Program; Financial Assistance for Graduate Students

Summary Description: The National Oceanic and Atmospheric Administration (NOAA) is announcing Funding Availability for graduate students pursuing masters or doctoral level degrees in oceanography, marine biology, or maritime archaeology through the Dr. Nancy Foster Scholarship Program and is inviting applications for such scholarships. Approximately $160,000 will be available through this announcement for fiscal year 2006. It is expected that approximately five awards will be made, depending on the availability of funds. The intent of this program is to recognize outstanding scholarship and encourage independent graduate level research in the above mentioned fields.

Statutory Authority: 16 U.S.C. 1445c-1.

CFDA: 11.429 National Marine Sanctuary Program.

Application Deadline: Applications must be received between February 13, 2006 and April 18, 2006 no later than 5 p.m. eastern daylight time. Applications received before February 13 or after April 18 will be returned.

Address for Submitting Proposals: Applications should be submitted via grants.gov. Applicants who do not have access to the Internet should send paper applications, or any part thereof, to the Dr. Nancy Foster Scholarship Program, Attention: Office of the Assistant Administrator, 13th Floor, National Ocean Service, 1305 East-West Highway, Silver Spring, MD 20910.

Information Contact(s): Send your request for information to the Program Manager at the address shown above, by telephone (301) 713-3074, or by Internet to http://fosterscholars.noaa.gov.

Eligibility: Only individuals who are United States citizens currently pursuing or accepted to pursue a masters or doctoral level degree in oceanography, marine biology, or maritime archaeology, including the curation, preservation, and display of maritime artifacts, are eligible for an award under this scholarship program. Universities or other organizations may not apply on behalf of an individual. Prospective scholars do not need to be enrolled, but must be admitted to a graduate level program in order to apply for this scholarship. Recipients of scholarship awards may be employed at the time of the award if it is a requirement of their degree program or directly related to their research effort. Other forms of employment will not be allowed and scholars will be required to submit a letter certifying that they are in compliance with this requirement. Eligibility must be maintained for each succeeding year of support and annual reporting requirements, to be specified at a later date, will apply.

Cost Sharing Requirements: None.

Intergovernmental Review: Applications under this program are not subject to Executive Order 12372, “Intergovernmental Review of Federal Programs”.

2. National Estuarine Research Reserve (NERR) Graduate Research Fellowship Program (GRF)

Summary Description: The Estuarine Reserves Division of NOAA is soliciting applications for graduate fellowship funding within the National Estuarine Research Reserve System. The Estuarine Reserves Division anticipates that 26 Graduate Research Fellowships will be competitively awarded to qualified graduate students whose research occurs within the boundaries of at least one reserve. The National Estuarine Research Reserve Graduate Research Fellowship program is designed to fund high quality research focused on enhancing coastal zone management while providing students with an opportunity to contribute to the research or monitoring program at a particular reserve site. Students are required to work with the research coordinator or reserve manager to develop a plan to participate in the research or monitoring program for up to 15 hours per week. These management-related research projects will enhance scientific understanding of the Reserve ecosystem, provide information needed by Reserve management and coastal management decision-makers, and improve public awareness and understanding of estuarine ecosystems and estuarine management issues. Research projects must address one of the following scientific areas of support: non-point source pollution, biodiversity, invasive species, habitat restoration, sustaining resources in estuarine ecosystems, and socioeconomic research applicable to estuarine ecosystem management.

Funding Availability: The amount of the fellowship is anticipated to be $20,000; at least 30% of total project cost match is required by the applicant (i.e., $8,572 match for $20,000 in federal funds for a total project cost of $28,572). Applicants may apply for one to three years of funding.

Statutory Authority: 16 U.S.C. 1461 (e)(1)(B) .

CFDA: 11.420 Coastal Zone Management.

Application Deadline: Applicants are strongly encouraged to submit all materials through http://www.Grants.gov no later than 11 p.m. (EST) on November 1, 2005. Proposals will be blocked from submission through this online system after 11 p.m. (EST) on November 1, 2005. If Internet access is unavailable, paper applications should be postmarked or received by NOAA no later than 11 (EST) on November 1, 2005. Paper applications should be sent to: Susan White, Program Coordinator at NOAA/Estuarine Reserves Division, 1305 East-West Highway, N/ORM5, SSMC4, Station 10500, Silver Spring, MD 20910.

Information Contact: Susan White, NOAA's Estuarine Reserves Division; 1305 East-West Highway; SSMC4, Station 10500, N/ORM5; Silver Spring, MD 20912, or by phone at 301-713-3155 extension 224, or fax to 301-713-4363, e-mail at susan.white@noaa.gov or http://www.nerrs.noaa.gov/fellowship. If Dr. White is unavailable, please contact Erica Seiden at 301-713-3155 ext. 172 or via e-mail at erica.seiden@noaa.gov.

Eligibility: Institutions eligible to receive awards include institutions of higher education, other non-profits, commercial organizations, state, and local governments. Minority students are encouraged to apply to eligible institutions.

Cost Sharing Requirements: Requested federal funds must be matched by at least 30 percent of the total cost of the project, not a portion of only the federal share, (e.g. $8,572 match for $20,000 in federal funds for a total project cost of $28,572).

Intergovernmental Review: Applications under this program are not subject to Executive Order 12372, “Intergovernmental Review of Federal Programs.”

Oceans and Atmospheric Research

1. GradFell 2006 NMFS/Sea Grant Joint Graduate Fellowship Program in Marine Resource Economics

Summary Description: The National Sea Grant College Program (Sea Grant) within OAR is seeking applications for one of its fellowship programs to fulfill its broad educational responsibilities and to strengthen the collaboration between Sea Grant and NMFS. Fellows will work on thesis problems of public interest and relevance to NMFS under the guidance of NMFS mentors.

Funding Availability: The NMFS/Sea Grant Joint Graduate Fellowship Program in Marine Resource Economics expects to support at least two new Fellows for 2 years beginning in FY 2006. The award for each fellowship will be a cooperative agreement of $38,000 per year, with an anticipated start date of June 1, 2006.

Statutory Authority: 33 U.S.C. 1127(a).

Catalog of Federal Domestic Assistance Number: 11.417, Sea Grant Support.

Application Deadline: Applications must be received by 4 p.m. (local time) on February 10, 2006, by a state Sea Grant Program [or by the National Sea Grant Office (NSGO) if the application is from an institution of higher education in a non-Sea Grant state]. Applications received by a state Sea Grant program are to be forwarded, unchanged, to the NSGO and received no later than 4 p.m. EST on February 17, 2006. For applications submitted through Grants.gov, a date and time receipt indication is included and will be the basis of determining timeliness. Hard copy proposals will be date and time stamped when they are received in the program office. Hard copy applications arriving after the closing dates given above will be accepted for review only if the applicant can document that the application was provided to a delivery service that guaranteed delivery prior to the specified closing date and time; in any event, hard copy applications received by the NSGO later than two business days following the closing date will not be accepted.

Address for Submitting Applications: Applications from Sea Grant programs should be submitted through http://www.Grants.gov, unless an applicant does not have Internet access. In that case, paper applications may be submitted to the NSGO at the following address: National Sea Grant Office, R/SG, Attn: Fellowship Program Manager, Room 11718, NOAA, 1315 East-West Highway, Silver Spring, MD 20910 (Telephone number for express mail applications is 301-713-2431). Facsimile transmissions and electronic mail submission of applications will not be accepted.

Information Contact: National Sea Grant College Program, 1315 East-West Highway, Silver Spring, MD 20910; tel: (301) 713-2431; any state Sea Grant Program; or any participating NMFS facility.

Eligibility: Prospective Fellows must be United States citizens. At the time of application, prospective Marine Resource Economics Fellows must be in the process of completing at least two years of course work in a PhD. degree program in marine resource economics, natural resource economics, or environmental economics at an institution of higher education in the United States or its territories. Applications must be submitted by the institution of higher education, which may be any such institution in the United States or its territories.

Cost Sharing Requirements: Required 50 percent match of the NSGO funds by the academic institution (i.e., $6,333).

Intergovernmental Review: Applications under this program are not subject to Executive Order 12372, “Intergovernmental Review of Federal Programs.”

2. Dean John A. Knauss, Marine Policy Fellowship (Knauss Fellowship Program)

Summary Description: The Dean John A. Knauss Marine Policy Fellowship matches graduate students who have an interest in ocean, coastal and Great Lakes resources and in the national policy decisions affecting these resources with hosts in the legislative and executive branches of government for a one year paid fellowship.

Funding Availability: Not less than 30 applicants will be selected, of which the selected applicants assigned to the Congress will be limited to 10. The overall cooperative agreement is $41,500 per student.

Statutory Authority: 33 U.S.C. 1127(b).

Catalog of Federal Domestic Assistance Number: 11.417, Sea Grant Support.

Application Deadline: Eligible graduate students must submit applications to state Sea Grant college programs, whose deadlines vary (contact individual states for due dates). Selected applications from the sponsoring Sea Grant program are to be received in the National Sea Grant Office no later than 5 p.m. eastern time on April 6, 2006. Hard copy applications that arrive after the closing date will be accepted for review only if the applicant can document that the application was provided to a delivery service that guaranteed delivery prior to the specified closing date and time; in any event, hard copy applications received by the NSGO later than two business days following the closing date will not be accepted.

Address for Submitting Proposals: Applications from Sea Grant programs should be submitted through http://www.Grants.gov, unless an applicant does not have Internet access. In that case, hard copy may be submitted to the NSGO and should be addressed to: National Sea Grant Office, R/SG, Attn: Knauss Program Manager, Room 11718, NOAA, 1315 East-West Highway, Silver Spring, MD 20910 (telephone number for express mail applications is 301-713-2431). Facsimile transmissions and electronic mail submission of applications will not be accepted.

Information Contact: National Sea Grant College Program, 1315 East-West Highway, Silver Spring, MD 20910; tel: (301) 713-2431 ext. 124; or any state Sea Grant Program.

Eligibility: Any student, regardless of citizenship, who, on April 6, 2006, is in a graduate or professional program in a marine or aquatic-related field at a United States accredited institution of higher education in the United States may apply.

Cost Sharing Requirements: There will be the one-third required cost share for those applicants selected as legislative fellows.

Intergovernmental Review: Applications under this program are not subject to Executive Order 12372, “Intergovernmental Review of Federal Programs.”

3. Sea Grant—Industry Fellowship Program

Summary Description: The Sea Grant—Industry Fellowship is available to graduate students enrolled in either MS or PhD degree programs in institutions of higher education in the United States and its territories, with required matching funds from private industrial sponsors. Industry Fellows will work on research and development projects on topics of interest to a particular industry/company. In a true partnership, the student, the faculty advisor, the Sea Grant College or institute, and the industry representative will work together, sharing research facilities and the cost of the activity.

Funding Availability: Sea Grant anticipates supporting up to five new Industry Fellows. The award is in the form of a grant of up to $30,000 per year with an anticipated start date of June 1, 2006.

Statutory Authority: 33 U.S.C. 1127(a).

Federal Domestic Assistance Number: 11.417, Sea Grant Support.

Application Deadline: Applications must be received by 4 p.m. (local time) on February 10, 2006, by a state Sea Grant Program [or by the National Sea Grant Office (NSGO) in the case of an institution of higher education in a non-Sea Grant state]. Applications are to be forwarded, unchanged, to the NSGO by the state Sea Grant Programs and received by midnight (EDT) on February 17, 2006. For applications submitted through Grants.gov, a date and time receipt indication is included and will be the basis of determining timeliness. Hard copy proposals will be date and time stamped when they are received in the program office. Hard copy applications arriving after the closing dates given above will be accepted for review only if the applicant can document that the application was provided to a delivery service that guaranteed delivery prior to the specified closing date and time; in any event, hard copy applications received by the NSGO later than two business days following the closing date will not be accepted.

Address for Submitting Proposals: Applications from Sea Grant programs should be submitted through http://www.Grants.gov, unless an applicant does not have Internet access. In that case, a paper application may be submitted to the NSGO at the following address: National Sea Grant Office, R/SG, Attn: Dr. Nikola Garber, Knauss Program Manager, Room 11718, NOAA, 1315 East-West Highway, Silver Spring, MD 20910 (telephone number for express mail applications is 301-713-2431). Facsimile transmissions and electronic mail submission of applications will not be accepted.

Information Contact: Dr. Nikola Garber, National Sea Grant College Program, 1315 East-West Highway, Silver Spring, MD 20910; tel: (301) 713-2431 ext. 124; e-mail: nikola.garber@noaa.gov; or any state Sea Grant Program.

Eligibility: At the time of application, any prospective student, regardless of citizenship, must be admitted to a MS or PhD degree program at an institution of higher education in the United States or its territories, or submit a signed letter from the institution indicating provisional acceptance to a MS or PhD degree program conditional on obtaining financial support such as this fellowship. Applications must be submitted by the institution of higher education.

Cost Sharing Requirements: Required 50 percent match of the Federal funds by the industrial partner.

Intergovernmental Review: Applications under this program are not subject to Executive Order 12372, “Intergovernmental Review of Federal Programs.”

4. GradFell 2006 NMFS/Sea Grant Joint Graduate Fellowship Program in Population Dynamics

Summary Description: The National Sea Grant College Program (Sea Grant) within OAR is seeking applications for one of its fellowship programs to fulfill its broad educational responsibilities and to strengthen the collaboration between Sea Grant and NMFS. Fellows will work on thesis problems of public interest and relevance to NMFS under the guidance of NMFS mentors.

Funding Availability: The NMFS—Sea Grant Joint Graduate Fellowship Program in Population Dynamics expects to support at least two new Fellows for 3 years beginning in FY 2006. The award for each fellowship will be a cooperative agreement of $38,000 per year, with an anticipated start date of June 1, 2006.

Statutory Authority: 33 U.S.C. 1127(a).

Catalog of Federal Domestic Assistance Number: 11.417, Sea Grant Support.

Application Deadline: Applications must be received by 4 p.m. (local time) on February 10, 2006, by a state Sea Grant Program [or by the National Sea Grant Office (NSGO) in the case of an institution of higher education in a non-Sea Grant state]. Applications received by the state Sea Grant Programs are to be forwarded, unchanged, to the NSGO and received by 4 p.m. eastern time on February 17, 2006. For applications submitted through Grants.gov, a date and time receipt indication is included and will be the basis of determining timeliness. Hard copy proposals will be date and time stamped when they are received in the program office. Hard copy applications arriving after the closing dates given above will be accepted for review only if the applicant can document that the application was provided to a delivery service that guaranteed delivery prior to the specified closing date and time; in any event, hard copy applications received by the NSGO later than two business days following the closing date will not be accepted.

Address for Submitting Proposals: Applications from Sea Grant programs should be submitted through http://www.Grants.gov, unless an applicant does not have Internet access. In that case, hard copy may be submitted to the NSGO and should be addressed to: National Sea Grant Office, R/SG, Attn: Fellowship Program Manager, Room 11718, NOAA, 1315 East-West Highway, Silver Spring, MD 20910 (telephone number for express mail applications is 301-713-2431). Facsimile transmissions and electronic mail submission of applications will not be accepted.

Information Contact: National Sea Grant College Program, 1315 East-West Highway, Silver Spring, MD 20910; tel: (301) 713-2431; any state Sea Grant Program; or any participating NMFS facility.

Eligibility: Prospective Fellows must be United States citizens. At the time of application, prospective Population Dynamics Fellows must be admitted to a PhD degree program in population dynamics or a related field such as applied mathematics, statistics, or quantitative ecology at an institution of higher education in the United States or its territories, or submit a signed letter from the institution indicating provisional acceptance to a PhD degree program conditional on obtaining financial support such as this fellowship. Applications must be submitted by the institution of higher education, which may be any such institution in the United States or its territories.

Cost Sharing Requirements: Required 50 percent match of the NSGO funds by the academic institution (i.e., $6,333).

Intergovernmental Review: Applications under this program are not subject to Executive Order 12372, “Intergovernmental Review of Federal Programs.”

Limitation of Liability

Funding for programs listed in this notice is contingent upon the availability of Fiscal Year 2005 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, Vol. 67, No. 210, pp. 66177B66178 for additional information. Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216—6—TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 27, 2005.
Helen Hurcombe,
Director Acquisition and Grants Office, National Oceanic and Atmospheric Administration.

[FR Doc. 05-12927 Filed 6-29-05; 8:45 am]

BILLING CODE 3510-12-P